FEDERAL COMMUNICATIONS COMMISSION

47 CFR Part 10

[PS Docket Nos. 15-91 and 15-94; DA 25-12; FR ID 273471]

Wireless Emergency Alerts and the Emergency Alert System

AGENCY: Federal Communications Commission.

ACTION: Final rule; announcement of effective date.

SUMMARY: In this document, as directed by the Federal Communications Commission (Commission), the Public Safety and Homeland Security Bureau (Bureau) adopts implementation parameters for multilingual Wireless Emergency Alerts (WEA). The Bureau is requiring commercial mobile service providers who participate in WEA (Participating CMS Providers) to support multilingual templates for the most commonly issued and most time-sensitive types of alerts in English, the next thirteen most commonly spoken languages in the United States, and American Sign Language (ASL). The non-ASL templates must be customizable with event-specific information that utilize four fillable elements: the name of the sending agency, the location, the time, and an optional URL. The alert templates for ASL are non-fillable and signed by a Certified Deaf Interpreter (CDI). The Bureau requires WEA-capable mobile devices to accompany the display of templates with the corresponding English-language fillable template. The Bureau also announces the effective date of a previously announced amendment that was contingent on this action. Together, these steps further the Commission's goal of ensuring that WEA remains an essential and effective public safety tool that allows alert originators to warn their communities of danger and advise them to take protective action.

DATES: The amendments to 47 CFR 10.480 (amendatory instruction 4) and 47 CFR 10.500(e) (amendatory instruction 6), published at 88 FR 86824 on December 15, 2023, are effective on June 5, 2028. The amendments in this document to 47 CFR 10.480 (amendatory instruction 2) and 47 CFR 10.500(e) (amendatory instruction 3) are delayed indefinitely.

FOR FURTHER INFORMATION CONTACT: Joshua Gehret, Cybersecurity and Communications Reliability Division, Public Safety and Homeland Security Bureau, (202) 418-7816 or joshua.gehret@fcc.gov. For the Paperwork Reduction Act information collection requirements contained in this document, contact Nicole Ongele, Office of Managing Director, Performance and Program Management, 202-418-2991 or PRA@fcc.gov.

SUPPLEMENTARY INFORMATION: This is a summary of the Commission's Report and Order, PS Docket Nos. 15-91 and 15-94, adopted and released on January 8, 2025. The full text of this document is available at https://docs.fcc.gov/public/attachments/DA-25-12A1.pdf. To request materials in accessible formats for people with disabilities (braille, large print, electronic files, audio format), send an email to fcc504@fcc.gov or call the Consumer & Governmental Affairs Bureau at 202-418-0530 (voice), 202-418-0432 (TTY).

Procedural Matters

Regulatory Flexibility Act. The Regulatory Flexibility Act of 1980, as amended (RFA) requires that an agency prepare a regulatory flexibility analysis for notice and comment rulemakings, unless the agency certifies that “the rule will not, if promulgated, have a significant economic impact on a substantial number of small entities.” Accordingly, the Bureau has prepared a Supplemental Final Regulatory Flexibility Analysis (Supplemental FRFA) concerning the potential impact of the adopted rules in this Report and Order, on small entities.

Congressional Review Act: The Bureau has determined that this rule is non-major under the Congressional Review Act, 5 U.S.C. 804(2). The Commission will send a copy of the Order to Congress and the Government Accountability Office pursuant to 5 U.S.C. 801(a)(1)(A).

Paperwork Reduction Act Analysis. This document contains proposed new or modified information collection requirements. All such new or modified information collection requirements will be submitted to the Office of Management and Budget (OMB) for review under section 3507(d) of the Paperwork Reduction Act of 1995 (PRA). OMB, the general public, and other Federal agencies are invited to comment on any new or modified information collection requirements contained in this proceeding. In addition, we note that, pursuant to the Small Business Paperwork Relief Act of 2002, the Commission previously sought, but did not receive, specific comments on how the Commission might further reduce the information collection burden for small business concerns with fewer than 25 employees. The Bureau does not believe that the new or modified information collection requirements we adopt here will be unduly burdensome on small businesses.

Synopsis

Report and Order

A. Templates for Common and Time-Sensitive Emergencies

1. As directed by the Commission, we take steps to implement multilingual WEA by adopting templates to improve the availability of WEA. We require Participating CMS Providers to support multilingual templates for the following eighteen alerts: tornado emergency, tornado warning, flash flood emergency, flash flood warning, severe thunderstorm, snow squall, dust storm, hurricane, storm surge, extreme wind, test alert, fire, tsunami, earthquake, boil water, avalanche, hazardous materials, and 911 outage. We decline to adopt evacuation and shelter-in-place templates and defer consideration of other templates at this time.

2. To determine the most commonly issued alerts, we analyzed publicly available Integrated Public Alert and Warning System (IPAWS) data from 2022 and identified nine alert types that we determined were among the most commonly issued alerts that were appropriate for template alerts. We proposed templates for: tornados, flash floods, severe thunderstorms, snow squalls, dust storms, hurricanes, storm surges, extreme wind, and test alerts. No commenter objected to our analysis or suggested that we failed to identify a common category of alert. We therefore conclude that these emergencies are common enough to merit the creation of multilingual templates to extend the reach of WEA. The National Weather Service (NWS) recommended that we adopt two templates for tornados and two templates for flash floods: one emergency version for each that conveys “the highest threat to life and property” and one warning version for each that provides advance notice of the disaster. We agree that both versions of the tornado and flash flood alerts have different situational uses for notifying the public about the urgency of the emergency, and it would benefit the public for alert originators to have access to both as multilingual alerts. We therefore adopt both the emergency and warning versions of the templates for tornado and flash flood warnings.

3. Similarly, in light of the record, we conclude the most time-sensitive emergencies are: earthquakes, tsunamis, fires, hazardous materials, avalanches, boil water advisory, and 911 outages. In the WEA Multilingual Public Notice, we expressed our view that each of these emergencies poses imminent danger to the public and that time is of the essence with respect to taking any protective actions. As no commenters objected to our analysis with respect to earthquakes, boil water advisories, and avalanches being time-sensitive emergencies, we adopt these templates. We adopt the 911 outage template as well, agreeing with APCO International that the template is an additional tool that would be useful to emergency communication centers to inform the public of an outage.

4. Some commenters argue against the adoption of template-based alerts covering fire warning, tsunami, and hazardous materials emergencies, stating that the appropriateness of the calls to action included in those proposed templates may vary depending on the severity of the emergency, whether the alert is sent during or in advance of the disaster, and location of the recipient in relation to the emergency. For example, the City of Berkeley argues that the fire warning “will not be used by public officials in California” because the protective action proposed by the Bureau's fire warning template—to evacuate—does not align with California's statewide evacuation terminology in which “evacuation warning means prepare to evacuate . . . .” We disagree. The standard statewide evacuation terminology for California cited by the City of Berkeley describes an “Evacuation Warning” as a “[p]otential threat to life and/or property. Those who require additional time to evacuate, and those with pets and livestock should leave now.” In other words, this terminology does not advise the public to solely prepare for an evacuation, but to begin evacuating. This is consistent with our proposed fire warning template, which also advises the public to evacuate the location that is the subject of the alert. By contrast, California's terminology describes an “Evacuation Order” as “a lawful order to leave now” as “the area is lawfully closed to public access.” We believe that harmonizing the fire warning template with this “Evacuation Order” language would reduce its flexibility, as emergency managers may wish to advise the public to evacuate a location even if there is no formal government order to do so. We also hesitate to accept the City of Berkeley's assertion that no alerting official will use the template in the State of California when the State itself has not filed comments that take this position. We expect that emergency managers, including those in California, will be best positioned to determine the applicability and life-saving potential of the fire warning template on a case-by-case basis. We find that fires present a time-sensitive threat to the public and that the adoption of a fire warning alert would be effective at helping emergency managers protect the public from those threats, and therefore we adopt a multilingual template for fire warning alerts.

5. We adopt the proposed hazardous materials release template and a tsunami template for similar reasons. While we agree with observations in the record that conditions related to the release of hazardous materials may change as the emergency further develops—such as a change in the wind that subjects a new geographical location to the threat—such developments do not change the need to warn the public in the affected area of the emergency. We adopt the proposed hazardous materials template because it helps provide this warning to the public. In the case of tsunami templates, the City of Berkeley recommends that the Commission adopt two different templates to improve flexibility and avoid confusion with their own emergency policies: a “Tsunami Advisory” template that seeks evacuation of boats, docks, and beaches, as well as a “Tsunami Warning” template that also seeks evacuation of inland locations. We disagree with this approach. NWS's Tsunami Warning alerts, which were the basis for our proposed tsunami alert, advise the public to “Get away from coastal waters. Move to high ground or inland now.” Because NWS's “Tsunami Warnings” advise the public to move inland, rather than evacuate inland areas, implementing the City of Berkeley's proposed templates would create a conflict with NWS's alerts and potentially create confusion. We find that avoiding confusion about the meaning of a tsunami alert where they are used nationwide outweighs ensuring consistency of the tsunami template with the City of Berkeley's emergency policies.

6. We decline to adopt generic templates that would warn the public to either evacuate or shelter-in-place, as initially proposed. We agree with commenters that these templates are unlikely to effectively alert the public, risking panic due to their vagueness. As Art Botterell and ATIS note, generic templates instructing the public to take a specific protective action without providing essential details about why the warning was issued would be likely to cause confusion. ATIS cites research indicating that such detail, including a description of the threat giving rise to the need to take protective action, is a key component to an effective warning. Without this context, we agree with ATIS that recipients of generic alerts are less likely to take action and receiving such a warning may make a situation worse. Because of these risks, we decline to adopt generic evacuation and shelter-in-place alerts for use in multilingual WEA.¹

¹ The issue of whether Participating CMS Providers should be required to support additional templates, including an “all-clear” template and other templates suggested by commenters in the record, is still under consideration by the Bureau at this time.

7. We reiterate the Commission's decision that the multilingual templates we adopt today are optional for use by alerting authorities. In the event an alert originator does not find it appropriate to use the template, they are not obligated to. We agree with Art Botterell's observation that “[p]ublic warning is an activity in which variation is the rule” and that templates should “aid the alert originator, but never replace her.” We acknowledge that templates do not provide a one-size-fits-all solution to every emergency. However, for instances where the template is appropriate to the disaster, the templates are available for use by alert originators to make the warnings more widely accessible to the public. The alerts are also intended to be widely understandable and accessible to the in-language communities they are meant to alert. We find that having a template that supports some emergency situations is a better result than not adopting any templates that could warn the public about those emergencies.

B. Template Language in English

8. In adopting the eighteen templates that warn the public of different types of emergencies, as described above, we now turn to what the templates should say in English. We sought comment on the language that should be used in connection with each template. We adopt the English templates located in Appendix C of the Report and Order.

9. When we proposed these templates in the WEA Multilingual Public Notice, we adapted the language from existing templates used by NWS; social science research; the United States Geological Survey (USGS); language from FEMA used in test alerts; and guidance from the Centers for Disease Control and Prevention (CDC). The record supports the conclusion that the templates, on the whole, are generally understandable and will be effective at encouraging the public to take protective action.

10. Some commenters argue that we should modify some of the templates to improve clarity and effectiveness. We agree with many of those commenters and make minor refinements to the templates to increase their effectiveness. For example, we revise several templates to ensure the sentence structure is consistent. We agree with Bridge Multimedia, Inc. (Bridge) that emergency alerts with a consistent, complete sentence structure will aid public comprehension. We therefore modify several templates to include a definite article at the start of the alert and the “is in effect” phrase, i.e., “A STORM SURGE WARNING is in effect for [LOCATION] . . .” We also revise the 911 outage template to remove the [TIME] field because we agree with APCO that many alert originators do not know when an outage will be restored. We also revise some templates in light of suggestions that the vocabulary was unnecessarily complex or ambiguous. For example, we change the phrase “flying debris” to “flying objects” across several templates where high winds occur as part of the emergency. We make similar edits simplifying the vocabulary for the purposes of increased public comprehension, such as changing “substantial shelter” to “sturdy shelter” in the tornado templates or “those with respiratory issues” to “those with trouble breathing” in the dust storm template. Similarly, we agree with Bridge that certain phrases were figurative or unclear. We make clarifying edits such as changing the phrase “Urgently complete efforts to protect life and property” to “Take steps to protect life and property” in the hurricane and storm surge templates and “Do NOT go out into the calm of the hurricane eye!” to “Do NOT go outside if the wind calms!” in the extreme wind template. To implement NWS's recommendation that we adopt emergency and warning versions of the tornado and flash flood templates, we modify our proposed tornado and flash flood templates to establish two versions that include language treating each emergency with appropriate severity.

11. We reject suggestions from commenters where we disagree that their recommended alternative word or phrase is more accurate, clear, or precise. For example, Bridge argues that the phrase “when visibility drops” in the dust storm template is figurative language; but does not propose an alternate phrase. We disagree that this phrase would be unclear in the context of the alert as the dust storm template warns to “[b]e ready for a sudden drop to zero visibility.” The protective actions communicated to the public in that alert should be taken “when visibility drops,” e.g., when the visibility drops to or close to zero.² APCO also suggests a revision to the 911 template to include an additional data element of the phone number as a fillable part of the template. We reject this edit as it would require support for an additional data element for one template, and we believe the inclusion of a URL in these template alerts, as discussed below, provides enough flexibility to alert originators to include specific phone numbers to emergency services through the URL.

² While we change the word “impact” to “affect” to reduce ambiguity, we otherwise reject Bridge's arguments, finding that the meaning of these terms is simple, clear, and appropriately communicates the alert's urgency. We note that Bridge does not offer alternative language that the Bureau might consider to improve upon those terms.

C. Template Language in 13 Additional Languages

12. We adopt the multilingual templates located in Appendix D. In the WEA Multilingual Public Notice, the Bureau proposed translations in Arabic, Chinese (Simplified), French, German, Haitian Creole, Hindi, Italian, Korean, Portuguese, Russian, Spanish, Tagalog, and Vietnamese, which were developed through a contracted professional translation service. In addition to the comments submitted into the record, the Bureau worked with the Consumer and Governmental Affairs Bureau to acquire feedback from native language speakers and communities representing the populations these alerts are intended to reach. We received feedback on these templates from language teachers and members of local, state, and national organizations representing communities of language speakers. The comments we received were evaluated with the assistance of the Commission's contracted professional translation services. Based on this feedback, we adopt templates in the written forms of the 13 most commonly spoken languages in the United States after English. Accordingly, as required in the 2023 WEA Report and Order, when an alerting authority chooses to send a template-based multilingual alert message, the WEA-capable mobile device must be able to extract and display the relevant template in the subscriber's default language, provided that the default language is one of the 13 languages that we adopt templates for today.³

³ The Commission does not require WEA-capable devices to newly add default language support for these 13 languages. However, for the 13 languages, WEA-capable devices that allow the subscriber to select one or more of these languages as the default language must also support the display of WEA templates for those languages. The Bureau notes the Commission's guidance that ASL alerts operate differently than the 13 other languages.

13. In requiring support for these templates, we make conforming edits to reflect the changes to the English versions that are discussed above. All commenters on the proposed Haitian Creole, Hindi, and Russian templates agreed that they were accurate and clear as written. We also did not receive any feedback on the proposed Arabic, Portuguese, or Italian templates. Because no commenter identified any sources of confusion or inaccuracy, we adopt the Arabic, Haitian Creole, Hindi, Italian, Portuguese, and Russian templates with only minor changes developed in consultation with the Commission's contracted professional translation service to further improve clarity.

14. Commenters recommended revisions to the Chinese, German, Tagalog, Vietnamese, French, Korean, and Spanish templates. In considering these recommendations in consultation with the Commission's contracted professional translation service, we make changes to the templates that correct errors, simplify phrasing, avoid awkwardness, improve readability, and increase comprehension. We reject some changes to the templates offered by commenters that would introduce confusion, make the templates more difficult to read, or diverge from the meaning of the English template.⁴ We also reject the revisions of commenters that translated the fillable fields, as the contents of those fields will be decided upon by the alert originators that send template alerts and will not be translated, as discussed below.

⁴ For example, we find that the formal conjugations are more appropriate for messaging sent by alerting authorities to the community than informal conjugations. We also reject edits that make alerts longer when shorter, equally precise alternatives were available; where edits introduced repetition; and where they changed the meaning of the alert.

15. We resolve the outstanding questions related to Chinese, Portuguese, and Tagalog that were raised in the WEA Multilingual Public Notice. In addition to adopting templates written in simplified Chinese, we also adopt templates written in traditional Chinese. We agree with NWS and New York City Emergency Management (NYCEM) that support of templates in traditional Chinese will maximize the accessibility of WEA due to the nuanced differences between simplified and traditional written Chinese. We adopt templates in the Brazilian dialect of Portuguese and decline to adopt the European dialect of Portuguese in the absence of commenters suggesting a different course. We affirm our belief in the WEA Multilingual Public Notice that it is appropriate to satisfy the Tagalog translations using Filipino due to no concerns raised by reviewers of the Filipino templates that commented in this proceeding.

D. Supporting Fillable Templates

16. In the WEA Multilingual Public Notice, the Bureau sought comment on whether fillable templates were technically feasible and whether they would improve the templates' flexibility and effectiveness. Today, we require Participating CMS Providers to support fillable templates that can include event-specific information. Accordingly, we adopt fillable versions of the multilingual templates for English and the written forms of the 13 most commonly spoken languages in the United States. The fillable templates contain blank fields that will allow alert originators to insert the name of the sending agency ([SENDING AGENCY]), the name(s) of the geographic area(s) pertaining to the alert message ([LOCATION]), the time when the emergency conditions described in the alert are expected to end ([TIME]), and, if included by the alert originator, a URL ([URL]).

17. The majority of commenters in the record argue that fillable templates best serve the public. CTIA and LAAWW agree that static templates are less useful because they do not contain event-specific information sufficient to effectively warn the public. We agree with Hamilton Bean that fillable templates, on the other hand, which include “source, location, and time,” are “critical elements” for optimal WEA messages. Further, event-specific information “contribute[s] to personalization and, thereby, to the effectiveness of the warnings.” LAAWW supports the Bureau's proposal of the four fillable elements, as “[e]vent-specific information is extremely beneficial to the public.” We agree with commenters that the fillable fields allow alert originators to provide more complete, detailed information when they alert the public, and that this information would better equip the public to understand and respond to the alert. For these reasons, fillable templates are more likely to be used by alert originators because alert originators will be able to provide more information to the communities they serve. Because we agree with commenters that fillable templates allow more flexibility, including the option of providing a URL, and because no commenter defends the static templates as a more effective alerting tool over the fillable templates, we adopt the fillable templates for use in multilingual WEA.

18. We conclude that fillable templates are technically feasible for non-ASL multilingual alerts. We agree with ATIS that fillable templates are technically feasible, even though they are more technically complex than static templates. CTIA discusses several issues that would need to be resolved during the design process for fillable templates, but does not assert that fillable templates are technically infeasible. For example, CTIA states that standards bodies would need to create a protocol for any fillable fields not completed or improperly formatted by the alert originator to ensure the alert is not transmitted with blank spaces so as to not confuse individuals who receive the alert. ATIS explains that the fillable approach may not be feasible on legacy devices, as new information elements not recognized by legacy devices are commonly ignored and result in processing the alert as it currently exists. ATIS states that the exact extent of the effect on legacy devices would need to be determined during the design process. FEMA agrees that fillable templates will require time to make sure all technical issues are addressed. We agree that there are certain key technical issues to work through during the standards development process, but disagree insofar as commenters suggest these are barriers to adopting fillable templates that cannot be overcome.

19. We do not require the fillable elements in the multilingual versions of the templates to be translated into that template's language. The record supports the conclusion that translating the contents of the fillable fields could “increase confusion,” particularly in languages read right to left or that have different grammatical structures than English. In addition to not needing to be translated, we agree with CTIA that dynamically translating the fillable fields would be technically infeasible at this time.

20. While we require Participating CMS Providers to support templates that enable alert originators to insert the four fillable elements when originating an alert, we find that the WEA standards development process, which should include alert originators among its participants, is the appropriate venue to decide upon the technical implementation details for these fillable alerts. For example, we defer to the standards process to determine how the [TIME] field should be populated and formatted, including whether it should include the capability to display dates as well as the hour and minute to better reflect emergencies that carry over from one day to the next day, such as an overnight severe weather event. While we also defer to the standards process to determine how the [LOCATION] field should be structured, we strongly encourage support for free-form text to grant alert originators maximum flexibility in identifying the names of cities, towns, streets, or significant landmarks that may be effective references for the locations of emergencies. This is particularly true for situations where a county may be divided along larger geographical features, such as Maui County that consists of several islands. We also expect that the standards process will consider how the [LOCATION] field will be augmented by upcoming WEA functionalities such as location-aware maps. We also defer to the standards process and alerting software vendors to determine the best way for alert originators to be presented with the option to send a multilingual WEA, and how the alert originator will be presented with the ability to fill in the templates, including the name of the sending agency and a URL, if desired. Ultimately, however, the technical implementation of fillable alerts must ensure that alert originators' filled templates are received on WEA-capable handsets consistently, accurately, and in accordance with the requirements established in the Commission's 2023 WEA Report and Order and this document.

21. We reiterate that the 30-month time frame the Commission determined was reasonable to implement templates applies to implementing fillable templates. The Commission allowed 30 months to implement the changes to WEA adopted by the Commission in 2016, which was inclusive of the amount of time needed to make technical changes to WEA if needed. Further, the Commission has previously required more aggressive implementation timelines for the Commission's enhanced geotargeting requirements—which necessitated changes to WEA standards, network updates, testing, and deployment—to be completed within 22 months. As the Bureau has acknowledged, the 30-month timeline that the Commission determined was appropriate to implement templates also includes the time necessary to update standards, design, develop, and deploy the templates.

22. Although the Commission has considered the issue of implementation timelines and determined that 30 months is achievable, CTIA and ATIS argue that the fillable templates cannot be implemented within 30 months. We find that the implementation steps that they describe fall within scope of actions that were already considered by the Commission when setting the 30-month implementation timeframe. CTIA argues that our analysis in the WEA Multilingual Public Notice, which was drawn from the Commission's analysis in the 2023 WEA Report and Order, did not account for “substantial standards efforts to determine the feasibility and cost to support templates,” such as signal triggers, network capacity constraints, the needs of device manufacturers to utilize storage space, and the creation of new software. As a result, CTIA says, “the timelines proposed in the Public Notice will be insufficient to achieve the end-to-end design, testing, and integration required to support templates.” ATIS states that more time than 30-months is needed for “the more complex design required for fillable templates,” including updates to ATIS standards, 3GPP specifications, development, and testing. However, all of these concerns fall within the Bureau's analysis that Participating CMS Providers will need to consider “storage, standards, processes, and devices” to implement fillable templates, as well as the Commission's prior analysis that set the 30-month deadline while considering ATIS's view at the time that “any new data element in alert message metadata that would trigger the display of a template would require standards, design, development, and deployment efforts.” Further, CTIA and ATIS fail to explain why these specific aspects of implementing multilingual templates cannot be completed within 30 months.⁵ Lacking timelines supported by evidence that distinguish the costs of fillable templates, it is unclear how the technical concerns raised would lead us to agree with the 36-54 month timeline asserted by ATIS and CTIA. Further, we agree with the commenting Attorneys General about the need to make multilingual WEA “a reality for the public as soon as is technologically possible” due to the threat extreme weather poses to the public, and particularly to those who do not speak English. Therefore, we reiterate the Commission's determination that Participating CMS Providers must implement form-fillable multilingual templates for English and the next 13 most commonly spoken languages in the United States—as well as non-fillable ASL templates, discussed below—within 30 months after the publication of this document in the Federal Register, consistent with the Commission's 2023 WEA Report and Order.

⁵ In arguing that the Commission's 2023 WEA Report and Order did not provide enough time to implement multilingual templates, ATIS states that enhancements for multilingual WEA will require “very similar network and device support” to other WEA enhancements that it described in a letter previously filed with the Commission. However, we find that the timelines set out in the ATIS Ex Parte themselves lack evidence. For example, ATIS asserts that the implementation of symbols or infographics in WEA would require six months for high-level design, 18-24 months for completion of specification work, and 12-24 months for development, testing, and deployment. While ATIS includes tables that identify each step that it believes must occur to implement this WEA enhancement, it also assigns timeframes for each of these steps without offering any explanation of how those timeframes were determined or why the Commission should find them to be reasonable.

E. Supplementing Multilingual Templates With English Templates

23. In response to comments suggesting that the multilingual templates should appear alongside the English versions to promote a fuller understanding of the nature of the emergency, the Commission directed the Bureau to seek comment on the benefits and technical feasibility of displaying the English template alongside the multilingual template. We are persuaded by the record to require WEA-capable mobile devices to accompany the display of templates for the written forms of the 13 supported languages with the corresponding English-language fillable template. In all cases, we require the non-English alert to appear first so that the recipient initially sees the alert in the language in which they have configured their device.

24. On review of the record, we believe that always displaying the English template enhances the overall public safety value of the alert. We agree with NWS that the non-English template should be presented first. We find that this approach is likely to be consistent with the expectations of recipients that have set the default language settings of their WEA-capable mobile device to one of the 13 supported languages other than English. We also agree with NWS that always displaying the English template after the non-English template could help eliminate confusion about the meaning of an alert and raise public awareness of how alerts are translated.⁶ Some multilingual users, for example, may have sufficient English proficiency such that seeing the English message in close proximity to the multilingual alert would help the multilingual user associate the non-English word with the corresponding English vocabulary word for the emergency. This exposure may be important, especially in circumstances where other members of the public in the surrounding physical environment or on the ground emergency personnel may not speak the language in which the mobile device user receives the alert, but may be actively taking the same protective actions and responding to the disaster. For these reasons, we believe that displaying non-English and English alerts together will be beneficial even if the templates provide the same message. Further, we agree with CTIA that requiring the English message to appear alongside the multilingual template serves as an important public safety redundancy, and will further ensure that legacy devices that may not be able to display a multilingual alert will at minimum display the English alert. We also agree with ATIS that displaying the English and multilingual versions together are technically feasible.

⁶ ATIS opposes a rule requiring the non-English alert to appear first, noting that accommodating a specific order would increase the technical complexity of the device. However, ATIS does not quantify the degree of this technical complexity. We find that the benefit to the user in seeing the alert in the language they expect to see in an emergency outweighs the technical complexity in requiring the non-English alert to be displayed first.

25. We find that these positive benefits of presenting non-English and English templates together outweigh any theoretical negative effects. Commenters do not identify specific drawbacks to displaying both templates, and the record does not suggest what negative effects, if any, could arise from displaying the templates in this way. Previously, the Commission determined that the public safety value of integrating location-aware maps into WEA outweighed concerns that there had not been research into whether the public would be confused by receiving a location-aware map because mapping applications are already familiar to and widely used by the public. Similarly, we find today that the public currently receives WEA messages and is familiar with their purpose. The Bureau does not see a reason why receiving a multilingual alert in the language the user has set their mobile device to, followed by an English alert, would confuse the public.

F. Templates in American Sign Language

26. We require Participating CMS Providers to support non-fillable ASL templates—that is, video files of the alert messages in ASL that do not include the fillable elements described above. TDIforAccess, Inc., filing jointly with other organizations representing the deaf and hard of hearing community (TDI), acknowledges the technical challenges related to implementing ASL templates for WEA, but believes that “technical and logistical challenges” should not stop the Bureau from acting due to the need to make WEA accessible for the deaf and hard of hearing community. Ricky Harris, a resident of Houston, Texas who is deaf, expresses that the deaf and hard of hearing community “is left uninformed, vulnerable and at-risk during emergencies” and “urge[s] the FCC to take decisive action to ensure accessibility in emergency alerts of all [deaf and hard of hearing] individuals.” While we agree with TDI that we should move forward with these essential multilingual messages for the deaf and hard of hearing community, we also must agree with CTIA that fillable ASL templates are not technically feasible at this time. We find that the best approach that current technology allows is to support ASL through the implementation of non-fillable templates.

27. We adopt the ASL templates located in Appendix D.⁷ Commenters raise several issues with the proposed templates in the WEA Multilingual Public Notice, which we address in the ASL templates we adopt today. Specifically, commenters say the ASL templates should prioritize ASL grammatical structures; limit the use of fingerspelling except when absolutely necessary; use facial expressions that are consistent with urgent, lifesaving information; and prioritize conceptual accuracy, as opposed to parallel lexical choices to the English. Commenters resoundingly support the use of a CDI to conduct ASL translations, and believe that utilizing a CDI will correct these issues because “CDI's possess the cultural and linguistic competencies essential for delivering and understanding emergency messages effectively.” Further, a CDI will “ensure translations are linguistically accurate, conceptually precise, and culturally appropriate.” We agree with these comments and require Participating CMS Providers to support the implementation of these newly developed templates, which are signed by a CDI to ensure that the translations adhere to “ASL [l]inguistic and [c]ultural [n]orms.” Because the new translations address the issues identified by commenters in the record, we adopt them today.

⁷ The Bureau maintains original recordings of the ASL templates and will work with Participating CMS Providers if certain technical aspects of the ASL templates need to be modified to enable support on WEA-capable mobile devices (i.e., resolution, dimension, file formats, and other specifications).

28. To supplement the non-fillable ASL templates, we require WEA-capable mobile devices to accompany the display of these templates with the fillable template for the alert originator's alert in English, as is required for the written forms of the 13 supported languages. As explained above for other languages, we believe that including the fillable English template will enhance the public safety value of the alert. Georgia Tech indicates that follow-up messaging containing customized information can be effective since such messaging “will allow emergency managers to provide . . . information that addresses the needs of the community.” We agree, and believe including the fillable English template after the ASL alert strikes the best balance between addressing the needs of the deaf and hard of hearing community, supporting the ability for alert originators to include information tailored to the emergency through fillable templates, and acknowledging the existing technical capabilities.

29. We reject changes to the underlying content of the ASL templates, finding that their substance should match that of templates in other languages. We agree with Deaf Equality that the alert content itself is paced well enough to allow for comprehension, and is “concise yet comprehensive, effectively delivering key information without overwhelming the audience.” We disagree that the messages contain too much information such that the alerts must be shortened, as NVRC urges. The Bureau finds that it is important to ensure that people who are deaf and hard of hearing receive the same information as others during an emergency and that the retranslated alerts are sufficiently short and clear to communicate necessary information. We decline to include pictures or other visual aids in the alert, as these inclusions would lengthen the alert and are unnecessary due to the improved clarity of the alert by utilizing a CDI. We also decline to include captions in the ASL video templates, as some commenters suggest. Because the CDI-produced templates prioritize ASL grammatical structures—consistent with the recommendations in the record—captions in proper English grammar would not contemporaneously match the information as presented in ASL, and this dissonance could cause confusion in an emergency situation. Further, the need for English captions is mitigated because we require the fillable English version of the template to be displayed following the ASL template.

G. Support for Additional Languages

30. The Commission delegated the authority to the Bureau to seek comment on the costs of supporting additional languages and to designate—to the extent it is minimally burdensome to do so—additional languages that should be supported with multilingual templates in WEA. While commenters were interested in expanding the languages for support and offered many suggestions, the record presented no guiding principle for how the Bureau should select additional languages at this time.

31. The Bureau sought comment on different approaches to selecting languages in the WEA Multilingual Public Notice. The Commission previously noted that commenters suggested different approaches for identifying additional languages for support. The Bureau sought comment on each of these approaches: for languages spoken by at least 300,000 people in the U.S. over five years old; any additional languages with an estimated 25,000 individuals over the age of five with “especially high” rates of limited English proficiency (LEP); how to address the needs to local jurisdictions in the nationwide system of WEA; or other approaches, such as that used by the Census Bureau in selecting languages spoken by at least 2,000 LEP households. The Bureau notes that the languages the Commission has already adopted for support in WEA have a wide variance in LEP rates of speakers who speak English “not well” or “not at all,” making it difficult to determine using LEP rates alone which languages are most ripe for additional support. Further, the five most frequently spoken languages in U.S. homes other than English are already included in the adopted list of languages. The Bureau sought comment on which approach (or multiple approaches) should be used, and any factors that should be considered. In particular, we asked how to “assess what constitutes a high rate of [LEP].” The Bureau also sought comment on whether mobile devices are able to support additional languages. No commenter addressed the device issue, nor did we receive clear information from commenters that addressed which LEP benchmarks were appropriate to use, if at all.

32. To provide an example, NWS's comments discuss its work on multilingual translation “on languages with populations above 200,000 people that reported speaking English `less than very well' (the LEP population).” NWS focuses on languages with an LEP-to-total speaker ratio above 35%. NWS's comments list ten languages it is working to support that meet this criteria: all of which are included in the languages the Commission adopted for support and we provide templates for today, except for Somali. NWS does not urge the Bureau to include Somali or to adopt the criteria it uses; instead, it urges the Bureau to consider supplemental criteria to support languages in states with “other dominant, non-English languages specific to those states and territories that don't meet the criteria used by either the FCC or NWS.” These languages are Samoan (spoken widely in American Samoa), Chamorro (spoken widely in the Commonwealth of the Northern Mariana Islands), and Ilocano (spoken in Guam and Hawaii). And while the Bureau agrees that expanding WEA's accessibility to “other dominant, non-English languages” is important, these criteria could be applied to include any number of other languages in other states, Tribal lands, and territories aside from what NWS urges. NWS does not explain how it arrived at these languages to the exclusion of other significant regional languages in other parts of the United States. As a result, NWS's suggestion does not empower us to set sufficient, specific criteria for identifying other languages that WEA should support.

33. The suggested standard offered by both the Oregon DEMAC and LAAWW also does not resolve the question of how to choose an appropriate benchmark for selecting additional languages. LAAWW argues that “[i]t is important to use the languages list derived from the Federally mandated Factor 1 demographic analysis” as it “represents languages spoken by people who identify as limited English proficient.” Neither LAAWW nor Oregon DEMAC cite to the list they reference, but we presume this standard references the U.S. Department of Transportation's (DOT) four-factor analysis to determine whether materials are meaningfully accessible to LEP persons. The first factor, the factor we believe referred to, includes “[t]he number or proportion of LEP persons eligible to be served or likely to be encountered by a program, activity, or service of the recipient . . .” The Bureau conducted the analysis following the steps provided by the DOT, utilizing Census data with a national scope due to WEA's national reach. The resulting data from this analysis identifies languages for which we already adopt templates in this document and categories of aggregated language families that prevent us from identifying the specific languages that should be supported (e.g., identifying specific languages from “other Asian and Pacific Island Languages” family and their LEP rate). Further, the analysis itself does not provide a way to determine which rates of LEP are significant for purposes of multilingual WEA support. Because we do not have enough information from the record to determine what the appropriate LEP benchmark should be—and thus which languages should be supported that meet the benchmark—we find LAAWW and Oregon DEMAC's suggestion also does not allow us to determine which additional languages should be supported.

34. Other commenters urge adoption of additional languages, but similarly do not offer a principle for why some languages should be added to the exclusion of others. Restoring Dignity urges adding the following languages: Burmese, Dari/Farsi, Karen, Kiswahili/Swahili, Nepali, Pashto, Q'anjob'al, and Somali. It suggests these languages as appropriate due to the number of speakers in the nation, but does not offer a standard by which to draw the line between these and other languages. The same is true for the Port of Seattle (suggesting support in Somali, Ukrainian, Amharic, Punjabi, Japanese, Cambodian, Laotian, Farsi, Tigrinya, Oromo, and Samoan), NYCEM (suggesting support in Bengali, Polish, Yiddish, and Urdu), and Megan Schwimmer (suggesting support for International Sign Language).

35. The Bureau emphasizes its commitment to supporting additional languages if required by the public interest. We will monitor the deployment of the templates we adopt today and the needs of public safety agencies and the public at large and revisit this issue as appropriate.

H. Consumer Outreach and Future Updates to the Templates

36. The Commission directed the Bureau to work with the Consumer and Governmental Affairs Bureau to create a consumer guide explaining how consumers can set the default language on their cellular devices, with this guide translated into the languages we adopt today. The Bureau sought comment on the approaches it should take to maximize the reach and effect of the guide, the information that should be included in the guide, and how this guide should be shared with the public, and who should be responsible for helping share the guide. We agree with commenters who suggest the Bureau should work with organizations in the language community to disseminate the consumer guide. We did not receive comments opining on the specific information that should be included in the consumer guide. The Bureau will work with the Consumer and Governmental Affairs Bureau to create and disseminate a consumer guide for the public, published in each of the languages for which we adopt templates today, per the delegation by the Commission.

37. The Bureau also sought comment “on the process by which the Bureau might update, supplement, or otherwise require improvements for templates.” NYCEM supports “regular updates” and requests that alerting authorities be able to petition the Bureau for “additional languages, alert types, and modifications[.]” The State Attorneys General recommend the Bureau undertake notice and public comment “no less frequently than every three years” to assess the most recently available American Survey data on spoken languages and LEP rates to add additional languages, and that this rate of periodic assessment is adequate to continuing to ensure WEA is available to the public. We agree that alert originators, community-based organizations that represent the language communities, or other members of the public should petition the Chief of the Bureau whenever they have specific suggestions to improve or change the templates. We decline to adopt a specific frequency in which we revisit the adequacy of the languages supported, but we agree that WEA should maintain its availability. The Bureau will monitor the implementation of multilingual WEA and the needs of stakeholders to ensure WEA is an effective tool for alerting the public of the most dangerous and time-sensitive emergencies.

I. Rejecting Objections To Adopting Templates

38. As the Commission stated in the 2023 WEA Report and Order, the use of multilingual templates improves upon available methods for sending multilingual WEA messages and will enhance the flexibility that alerting authorities have in communicating with their communities. However, some commenters continue to question the template approach already adopted by the Commission or suggest the Bureau should explore machine translation in lieu of templates. We do not—and cannot—revisit the viability of machine translation for creating multilingual WEA alerts. Consistent with the record before the Commission, many commenters take the view that “the accuracy of a translation requires human intervention”, as “the inaccurate translation may seriously misinform WEA recipients during an emergency.” The Attorneys General and the City of New York argue that machine and artificial intelligence forms of translation “present a serious risk of conveying inaccurate information to the public, potentially causing confusion, panic, and increased risks to public safety. In any event, the Bureau cannot reject templates or consider machine translation as some commenters urge because this approach falls outside the scope of its authority as delegated by the Commission, which has already rejected the use of machine translation. We remind commenters that the Commission has stated that it “will continue to examine the feasibility of machine translation technologies and its application” to multilingual WEA.

39. We disagree with commenters who argue that additional study is needed before the Bureau can adopt multilingual templates. These commenters focus on the need to engage different stakeholders in developing multilingual WEA to find the best path forward that properly balances the interests of all interested parties. The Bureau believes it has satisfied these concerns through the notice-and-comment process, as it has received the kind of input envisioned by these commenters across a wide variety of stakeholders. Since the Bureau is able to address the perspectives on the record before it in this document, we believe further study is unnecessary before moving forward with our delegated task of implementing multilingual WEA. The record establishes that there is a critical and present public safety need for more accessible alerts, and we agree that “undue delay” in implementing multilingual templates countervails the public interest.

J. Assessing the Benefits and Costs of Fillable Templates

40. The Bureau believes that adopting fillable templates will result in benefits measurable in terms of lives saved and injuries and property damage prevented. In adopting this order today, the Bureau recognizes that the Commission has already determined that the benefits of template-based multilingual alerts for WEA outweigh the costs. As such, the Bureau limits its review of the costs and benefits to the narrow scope of our delegation. We set aside arguments in the record that raise issues already decided by the Commission. For example, CTIA argues that the consequences of storing templates on the mobile device and negatively impact mobile device storage capacity has not been evaluated in the record, but the Commission has already evaluated the issue and determined that the templates should be stored on the device. CTIA and ATIS also urge the Bureau to extend the implementation timeframe of multilingual templates from 30 months after the publication of the Report and Order in the Federal Register to as much as 54 months. As the State Attorneys General point out, the Bureau does not have the authority to change this deadline, as it has been set by the Commission in the 2023 WEA Report and Order. We address the issues in the record with respect to the incremental benefits and costs as they pertain to fillable templates below.

41. Benefits of Implementing Fillable Templates. We have already discussed the support for fillable templates in the record and the significant benefits to the public that will accrue, including increased flexibility for alert originators that would result from more effective alerts to the public. We agree that fillable templates, which include “source, location, and time,” are “critical elements” for optimal WEA messages. Event-specific information also “contribute[s] to personalization and, thereby, to the effectiveness of the warnings.” LAAWW supports the Bureau's proposal of the four fillable elements, as “[e]vent-specific information is extremely beneficial to the public.” We agree with commenters that the fillable fields allow alert originators to provide more complete, detailed information when they alert the public, and that this information would better equip the public to understand and respond to the alert. We reiterate our belief that form-fillable templates that incorporate the name of the sender, the location, and the time of the disaster (coupled with a description of the threat and the protective action the public should take) create more effective alerts and is consistent with social science research on effective alerting. Further, including a URL hyperlinking to further information “can further reduce milling and protective action delay.” Research indicates that more specific information about the unfolding emergency helps the public better respond and take more effective protective action. The Bureau finds that fillable templates provides the best way to balance technological capability with more effective alert messaging. More effective alerting results in better public response in a disaster scenario and will save lives. We affirm our belief, in light of the record, that considerable benefits to the safety of life and property accrue from being able to take more effective protective action as a result of fillable templates.

42. Costs of Implementing Fillable Templates. We conclude that the costs of implementing form fillable templates fall within the same cost estimate identified by the Commission in the 2023 WEA Report and Order. In the WEA Multilingual Public Notice, we tentatively concluded that the costs to adopt form-fillable templates would not exceed the $42.4 million cost ceiling the Commission found applicable to implementing static templates because both fillable and static templates would require Participating CMS Providers to undertake a similar process of determining what changes would be required to storage, standards, processes, and devices. CTIA argues that the costs to support templates are not minimally burdensome and that the WEA Multilingual Public Notice fails to consider that there will be greater costs associated with implementation work not considered by the Bureau. As we discuss above, we believe the analysis in the WEA Multilingual Public Notice is inclusive of the issues that CTIA raises with respect to the time required to do the implementation work. Because the implementation timeline does not change, we believe the cost ceiling we proposed is still applicable. No commenter challenges our tentative conclusion that the costs will not exceed the $42.4 million ceiling. Therefore, we adopt our tentative conclusion that the costs to industry to implement fillable temples will not exceed $42.4 million. As thoroughly analyzed by the Commission in the 2023 WEA Report and Order, this cost ceiling accounts for the full scope of what Participating CMS Providers need to do to implement multilingual templates. We today conclude in the absence of contrary comments that the same analysis applies to implementing fillable templates. Because the Commission determined this cost was outweighed by the benefits of static templates, and we conclude that there are additional benefits to the public by adopting fillable templates, we conclude that the benefits of fillable templates are outweighed by the marginal cost of implementing them.

Regulatory Flexibility Analysis

43. As required by the Regulatory Flexibility Act of 1980, as amended (RFA), the Bureau incorporated a Supplemental Initial Regulatory Flexibility Analysis (IRFA) into the WEA Multilingual Public Notice released in February 2024. The Commission prepared Regulatory Flexibility Analyses in connection the 2023 WEA FNRPM released in April 2023, and the 2023 Report and Order released in October 2023. The Commission sought written public comment on the proposals in the 2023 WEA FNRPM, including comment on the IFRA. Additionally, the Bureau sought written public comment on the proposals in the WEA Multilingual Public Notice, including comment on the Supplemental IFRA. No comments were filed addressing the Supplemental IRFA. This Supplemental Final Regulatory Flexibility Analysis (FRFA) conforms to the RFA.

A. Need for, and Objectives of, the Final Rules

44. In this document, the Bureau adopts rules for multilingual templates that will increase the availability of Wireless Emergency Alerts (WEA) alerts for persons with limited English proficiency that understand one or more of the 13 most commonly spoken languages in the United States, as well as English and American Sign Language (ASL). This document requires Participating CMS Providers to support multilingual templates on mobile devices for the following eighteen alerts: tornado emergency, tornado warning, flash flood emergency, flash flood warning, severe thunderstorm, snow squall, dust storm, hurricane, storm surge, extreme wind, test alert, fire, tsunami, earthquake, boil water, avalanche, hazardous materials, and 911 outage. Participating CMS Providers are required to support pre-scripted alert templates for English, Arabic, Simplified Chinese, Traditional Chinese, French, German, Haitian Creole, Hindi, Italian, Korean, Portuguese, Russian, Spanish, Tagalog, and Vietnamese. Participating CMS Providers are also required to support the inclusion of four fillable elements that allow for the customization of the pre-scripted templates. Further, Participating CMS Providers must cause the fillable English version of the pre-scripted alert message to accompany the alert messages that use the pre-scripted templates for written forms of the 13 languages. The alert message using the pre-scripted template in the non-English language must be displayed first, and must be followed by the alert message using the English pre-scripted template. By offering alert originators the option to use these templates, users of various languages in their communities can get increased accessibility to potentially life-saving emergency information from WEA. For ASL, because fillable template are not technically feasible at this time, the Bureau instead requires Participating CMS Providers to support non-fillable ASL templates. We believe this approach balances the needs of the deaf and hard of hearing community to receive WEAs in ASL, the needs to alert originators to include information tailored to the emergency through fillable templates, and the technical capabilities of WEA.

B. Summary of Significant Issues Raised by Public Comments in Response to the IRFA

45. There were no comments filed that specifically addressed the proposed rules and policies presented in the Supplemental IRFA.

C. Response to Comments by the Chief Counsel for Advocacy of the Small Business Administration

46. Pursuant to the Small Business Jobs Act of 2010, which amended the RFA, the Commission is required to respond to any comments filed by the Chief Counsel for Advocacy of the Small Business Administration (SBA), and to provide a detailed statement of any change made to the proposed rules as a result of those comments. The Chief Counsel did not file any comments in response to the proposed rules in this proceeding.

D. Description and Estimate of the Number of Small Entities to Which the Proposed Rules Will Apply

47. The RFA directs agencies to provide a description of and, where feasible, an estimate of the number of small entities that may be affected by the rules adopted herein. The RFA generally defines the term “small entity” as having the same meaning as the terms “small business,” “small organization,” and “small governmental jurisdiction.” In addition, the term “small business” has the same meaning as the term “small business concern” under the Small Business Act.” A “small business concern” is one which: (1) is independently owned and operated; (2) is not dominant in its field of operation; and (3) satisfies any additional criteria established by the SBA.

48. As noted above, Regulatory Flexibility Analyses were incorporated into the WEA Multilingual Public Notice from the 2023 WEA FNPRM and the 2023 Report and Order. In those analyses, the Commission described in detail the small entities that might be significantly affected. Accordingly, in this Supplemental FRFA, we hereby incorporate the descriptions and estimates of the number of small entities from the previous Regulatory Flexibility Analyses in the 2023 WEA FNPRM and the 2023 WEA Report and Order.

E. Description of Projected Reporting, Recordkeeping, and Other Compliance Requirements for Small Entities

49. This document will not impose additional reporting and recordkeeping on small entities who are Participating CMS Providers voluntarily participating in WEA. The Bureau notes that the obligations regarding these templates were already detailed and adopted by the Commission in the 2023 WEA Report and Order. The Report and Order serves only to establish the parameters for how the reporting and recordkeeping obligations related to multilingual alert templates adopted in the 2023 WEA Report and Order must be implemented. As described above, this document adopts a list of templates that must be stored on WEA-capable mobile devices representing the most commonly utilized and the most time sensitive alert types which are required to be supported in English and the written forms of 13 additional languages. The templates must support customizable information about the sending agency, time, location, and an optional URL, and Participating CMS Providers must support the ability for the fillable English version of the pre-scripted alert message to accompany the alert messages that use the pre-scripted templates for the 13 languages. This document requires that the ASL templates be non-fillable and that alert messages that use these templates be accompanied by a corresponding alert message using the fillable English alert.

50. In the 2023 WEA Report and Order the Commission estimated $42.4 million as the maximum cost ceiling for implementation of the templates in English, the 13 most commonly spoken languages in the U.S., and ASL. This estimate, which takes into consideration the complete scope of what is required for small and other Participating CMS Providers to implement multilingual templates, included the costs for fillable templates which we address in this document. Regarding compliance costs for small entities, we note that the Bureau has provided the required translated templates, so small Participating CMS Providers will not be responsible for the costs of translating templates. For these reasons, the Bureau expects the implementation details finalized in this document will impose minimal burdens on small entities, and we do not expect that small entities will have to hire professionals to implement the requirements beyond what may be required to implement the 2023 WEA Report and Order. Small and other Participating CMS Providers will have 30 months from publication of the rules in the Federal Register to comply with the requirements adopted in today's Report and Order. The Commission established this compliance timeframe in the 2023 WEA Report and Order which was not subsequently requested to be reconsidered, and the Bureau does not have authority to change this timeframe.

F. Steps Taken To Minimize the Significant Economic Impact on Small Entities, and Significant Alternatives Considered

51. The RFA requires an agency to provide, “a description of the steps the agency has taken to minimize the significant economic impact on small entities . . . including a statement of the factual, policy, and legal reasons for selecting the alternative adopted in the final rule and why each one of the other significant alternatives to the rule considered by the agency which affect the impact on small entities was rejected.”

52. The Bureau is mindful that in meeting its duty to develop the nation's emergency preparedness by making WEA more accessible, small entities may incur costs. As we note above in section E, the costs for template development and implementation addressed in the Report and Order were included in the costs for small and other Participating CMS Providers associated with implementing the 2023 WEA Report and Order. We believe that because the Commission has already taken on the cost of translating templates, including creating ASL video templates, we have taken a significant step to help reduce the burden on small entities. In considering whether the templates should be static or fillable, the Bureau concluded that fillable templates would provide additional public safety benefits which outweighed the costs of requiring small and other Participating CMS Providers to take on burdens that are similar to the implementation of static templates. However, the Bureau further reduced burdens on small and other Participating CMS Providers by requiring support for non-fillable ASL templates because the Bureau finds that fillable ASL templates are not technically feasible at this time.

53. We also considered and declined to require the fillable elements in the multilingual versions of the templates to be translated into that template's language, and to require a revision to the 911 template adding support of a telephone number as a fillable part of the template, which would have increased burdens on small and other Participating CMS Providers. Additionally, the Bureau reduced burdens on small providers by declining to adopt a requirement to implement generic templates for evacuation and shelter-in-place templates, as originally proposed in the WEA Multilingual Public Notice. We agreed with commenters that generic templates for these types of situations would not be effective, and posed the risk of making an emergency situation worse since recipients of such generic alerts may be less likely to take action in response to the alert. Lastly, although some commenters advocated for a longer implementation time period of 36-54 months which would have benefitted small Participating CMS Providers, we mention in the previous section that the Bureau was not vested with authority to change the Commission adopted 30-month deadline. Moreover, commenters did not adequately explain or provide evidence to substantiate why the form-fillable multilingual template requirements adopted in today's Report and Order could not be implemented within 30 months from publication of this document in the Federal Register.

Appendix C

English Templates

Template | Revised templates
Tornado Emergency | [SENDING AGENCY]: A TORNADO EMERGENCY is in effect for [LOCATION] until [TIME]. Tornado spotted in this area. This is a life-threatening situation. Take shelter now in a basement or an interior room on the lowest floor of a sturdy building. If you are outdoors, in a mobile home, or in a vehicle, move to the closest sturdy shelter and protect yourself from flying objects. Check media. [URL]
Tornado Warning | [SENDING AGENCY]: A TORNADO WARNING is in effect for [LOCATION] until [TIME]. Take shelter now in a basement or an interior room on the lowest floor of a sturdy building. If you are outdoors, in a mobile home, or in a vehicle, move to the closest sturdy shelter and protect yourself from flying objects. Check media. [URL]
Flash Flood Emergency | [SENDING AGENCY]: A FLASH FLOOD EMERGENCY is in effect for [LOCATION] until [TIME]. This is an extremely dangerous and life-threatening situation. Do not attempt to travel unless you are fleeing an area that may flood or are under an evacuation order. [URL]
Flash Flood Warning | [SENDING AGENCY]: A FLASH FLOOD WARNING is in effect for [LOCATION] until [TIME]. This is a dangerous and life-threatening situation. Do not attempt to travel unless you are fleeing an area that may flood or are under an evacuation order. [URL]
Severe Thunderstorm Warning | [SENDING AGENCY]: A SEVERE THUNDERSTORM WARNING is in effect for [LOCATION] until [TIME] for DESTRUCTIVE 80 mile per hour winds. Take shelter inside a sturdy building, away from windows. Flying objects may be deadly to those outside a sturdy shelter. [URL]
Snow Squall Warning | [SENDING AGENCY]: A SNOW SQUALL WARNING is in effect for [LOCATION] until [TIME]. Slow down or delay travel! Be ready for a sudden drop to near zero visibility and icy roads in heavy snow. [URL]
Dust Storm Warning | [SENDING AGENCY]: A DUST STORM WARNING is in effect for [LOCATION] until [TIME]. Be ready for sudden drop to zero visibility. Pull Aside, Stay Alive! When visibility drops, pull far off the road and put your vehicle in park. Turn the lights off and keep your foot off the brake. Infants, the elderly, and those with trouble breathing urged to take precautions. [URL]
Hurricane Warning | [SENDING AGENCY]: A HURRICANE WARNING is in effect for [LOCATION] for dangerous and damaging winds until [TIME]. This warning is issued up to 36 hours before hazardous conditions begin. Take steps to protect life and property. Have food, water, cash, fuel, and medications for 3+ days. FOLLOW INSTRUCTIONS FROM LOCAL OFFICIALS. [URL]
Storm Surge Warning | [SENDING AGENCY]: A STORM SURGE WARNING is in effect for [LOCATION] for the danger of life-threatening flooding until [TIME]. This warning is issued up to 36 hours before hazardous conditions begin. Take steps to protect life and property. Follow evacuation orders if given for this area to avoid drowning or being cut off from emergency services. [URL]
Extreme Wind Warning | [SENDING AGENCY]: An EXTREME WIND WARNING is in effect for [LOCATION] for the immediate danger of life-threatening winds until [TIME]. Take cover NOW in an interior room of a sturdy building, away from windows. Protect your head from flying objects. Do NOT go outside if the wind calms! Winds will quickly become dangerous again. [URL]
Test Alert | THIS IS A TEST of the National Wireless Emergency Alert System sent by [SENDING AGENCY]. The purpose is to maintain and improve alert and warning capabilities at the federal, state, local, Tribal and territorial levels and to evaluate the nation's public alert and warning capabilities. No action is required by the public. [URL]
Tsunami Warning | [SENDING AGENCY]: A TSUNAMI WARNING is in effect for [LOCATION] until [TIME]. A series of powerful waves and strong currents may affect coasts near you. You are in danger. Get away from coastal waters. Move to high ground or inland now. Keep away from the coast until local officials say it is safe to return. [URL]
Earthquake Warning | EARTHQUAKE DETECTED! Drop, Cover, Hold On. Protect Yourself. [SENDING AGENCY] [URL]
Boil Water Advisory | [SENDING AGENCY]: A BOIL WATER ALERT has been issued for [LOCATION] and is in effect until [TIME]. Water in your community can make you sick. Use bottled water if available. Do not drink, cook with, brush your teeth with, or clean your home with tap water or filtered water until you boil it. Bring water to a full rolling boil for THREE MINUTES. Let water cool before use. Do not use ice made with water that has not been boiled. If you use formula to feed your child, use ready-to-use formula. Make sure pets do not drink water that has not been boiled. [URL]
911 Outage Alert | [SENDING AGENCY]: A 9-1-1 OUTAGE ALERT is in effect for [LOCATION]. Please contact police, fire, medical, or other emergency services directly at their local phone numbers in case of emergency. If you dial 9-1-1, you may not get help. [URL]
Avalanche Warning | [SENDING AGENCY]: An AVALANCHE WARNING is in effect in [LOCATION] until [TIME]. Unstable, fast-moving snow can happen quickly, causing injury or death and can block roads and damage property in affected areas. LEAVE areas near [LOCATION]. DO NOT return to area after evacuation until directed by local officials. Travel in the area is not recommended. Avalanches may run long distances. [URL]
Fire Warning | [SENDING AGENCY]: A FIRE WARNING in [LOCATION] is in effect until [TIME]. Evacuate your family and pets now, do not delay. Visibility in area will be reduced and roads can become blocked. If you do not leave now, you could be trapped, injured, or killed. LEAVE areas near [LOCATION]. Expect reduced visibility, heavy smoke, and difficulty breathing. Be careful when driving. Watch for public safety personnel operating in the area and follow their instructions. [URL]
Hazardous Materials Warning | [SENDING AGENCY]: HAZARDOUS MATERIALS were released at [TIME] in [LOCATION]. Exposure may cause difficulty breathing, loss of coordination, burning sensation in eyes, nose, throat, or lungs, nausea, and possibly death. LEAVE areas near [LOCATION]. IF DRIVING to evacuate area, keep car windows and vents closed. DO NOT return to area after evacuation unless directed by local officials. [URL]

Appendix D

Multilingual Templates

American Sign Language Templates

The translations for American Sign Language (ASL) are accessible here: https://www.fcc.gov/WirelessEmergencyAlert-Templates-ASL.

BILLING CODE 6712-01-P

BILLING CODE 6712-01-C

French Templates
Tornado Emergency | [SENDING AGENCY] : un RISQUE DE TORNADE est en vigueur pour [LOCATION] jusqu'à [TIME]. Une tornade a été détectée dans cette zone. La vie des personnes concernées est en danger. Abritez-vous dès maintenant dans un sous-sol ou dans une pièce intérieure au niveau le plus bas d'un bâtiment robuste. Si vous vous trouvez à l'extérieur, dans une maison mobile ou dans un véhicule, rejoignez l'abri robuste le plus proche et protégez-vous des objets volants. Consultez les médias. [URL]
Tornado Warning | [SENDING AGENCY] : un AVIS DE TORNADE est en vigueur pour [LOCATION] jusqu'à [TIME]. Abritez-vous dès maintenant dans un sous-sol ou dans une pièce intérieure au niveau le plus bas d'un bâtiment robuste. Si vous vous trouvez à l'extérieur, dans une maison mobile ou dans un véhicule, rejoignez l'abri robuste le plus proche et protégez-vous des objets volants. Consultez les médias. [URL]
Flash Flood Emergency | [SENDING AGENCY] : un RISQUE D'INONDATION SOUDAINE est en vigueur pour [LOCATION] jusqu'à [TIME]. Il s'agit d'une situation extrêmement dangereuse et potentiellement mortelle. Évitez de vous déplacer à moins que vous ne quittiez une zone inondable ou que vous ne fassiez l'objet d'un ordre d'évacuation. [URL]
Flash Flood Warning | [SENDING AGENCY] : un AVIS D'INONDATION SOUDAINE est en vigueur pour [LOCATION] jusqu'à [TIME]. Il s'agit d'une situation extrêmement dangereuse et potentiellement mortelle. Évitez de vous déplacer à moins que vous ne quittiez une zone inondable ou que vous ne fassiez l'objet d'un ordre d'évacuation. [URL]
Severe Thunderstorm Warning | [SENDING AGENCY] : un AVIS D'ORAGE VIOLENT est en vigueur pour [LOCATION] jusqu'à [TIME] avec des vents DESTRUCTEURS de 130 km/heure. Mettez-vous à l'abri à l'intérieur d'un bâtiment robuste, loin des fenêtres. Les objets volants peuvent être mortels pour les personnes se trouvant à l'extérieur d'un abri robuste. [URL]
Snow Squall Warning | [SENDING AGENCY] : un AVIS DE BOURRASQUE DE NEIGE est en vigueur pour [LOCATION] jusqu'à [TIME]. Ralentissez ou reportez vos déplacements ! Préparez-vous à une chute soudaine de la visibilité, qui pourrait devenir presque nulle, et à des routes verglacées en cas de neige abondante. [URL]
Dust Storm Warning | [SENDING AGENCY] : un AVIS DE TEMPÊTE DE POUSSIÈRE est en vigueur pour [LOCATION] jusqu'à [TIME]. Préparez-vous à une baisse soudaine de la visibilité, qui pourrait devenir nulle. Arrêtez-vous, restez en vie ! Lorsque la visibilité diminue, quittez la route et mettez votre véhicule en position de stationnement. Éteignez les phares et n'appuyez pas sur la pédale de frein. Les nourrissons, les personnes âgées et les personnes souffrant de problèmes respiratoires sont invités à prendre des précautions. [URL]
Hurricane Warning | [SENDING AGENCY] : un AVIS D'OURAGAN est en vigueur pour [LOCATION] jusqu'à [TIME] en raison de vents dangereux et destructeurs. Cet avis est émis au moins 36 heures avant le début des conditions dangereuses. Prenez des mesures pour protéger votre vie et vos biens. Prévoyez suffisamment de nourriture, d'eau, d'argent, de carburant et de médicaments pour 3 jours ou plus. SUIVEZ LES INSTRUCTIONS DES AUTORITÉS LOCALES. [URL]
Storm Surge Warning | [SENDING AGENCY] : un AVIS D'ONDE DE TEMPÊTE est en vigueur pour [LOCATION] en raison du risque d'inondations potentiellement mortelles jusqu'à [TIME]. Cet avis est émis au moins 36 heures avant le début des conditions dangereuses. Prenez des mesures pour protéger votre vie et vos biens. Suivez les ordres d'évacuation donnés pour cette zone afin d'éviter de vous noyer ou d'être coupé des services d'urgence. [URL]
Extreme Wind Warning | [SENDING AGENCY] : un AVIS DE VENT EXTRÊME est en vigueur pour [LOCATION] en raison du danger immédiat de vents potentiellement mortels jusqu'à [TIME]. Mettez-vous à l'abri dès MAINTENANT dans une pièce intérieure d'un bâtiment robuste, loin des fenêtres. Protégez votre tête des objets volants. Ne sortez PAS à l'extérieur si le vent se calme ! Les vents sont susceptibles de redevenir dangereux rapidement. [URL]
Test Alert | CECI EST UN TEST du Système national d'alertes d'urgence sans fil envoyé par [SENDING AGENCY]. L'objectif est de maintenir et d'améliorer les capacités d'alerte et d'avertissement aux niveaux fédéral, étatique, local, tribal et territorial et d'évaluer les capacités d'alerte et d'avertissement du pays. Aucune action n'est requise de la part du public. [URL]
Tsunami Warning | [SENDING AGENCY] : un AVIS DE TSUNAMI est en vigueur pour [LOCATION] jusqu'à [TIME]. Une série de vagues puissantes et de forts courants peuvent affecter les côtes situées près de chez vous. Vous êtes en danger. Éloignez-vous des eaux côtières. Réfugiez-vous sur les hauteurs ou à l'intérieur des terres dès maintenant. Restez éloigné des côtes jusqu'à ce que les autorités locales vous permettent de rentrer chez vos en toute sécurité. [URL]
Earthquake Warning | TREMBLEMENT DE TERRE DÉTECTÉ ! Baissez-vous, couvrez-vous et tenez-vous bien. Protégez-vous. [SENDING AGENCY] [URL]
Boil Water Advisory | [SENDING AGENCY] : un AVIS DE FAIRE BOUILLIR L'EAU a été émis pour [LOCATION] et est en vigueur jusqu'à [TIME]. L'eau de votre communauté peut vous rendre malade. Utilisez de l'eau en bouteille si possible. Vous ne devez pas boire, cuisiner, vous brosser les dents et nettoyer votre maison avec de l'eau du robinet ou de l'eau filtrée sans l'avoir faite bouillir. Portez l'eau à ébullition pendant TROIS MINUTES. Laissez l'eau refroidir avant de l'utiliser. N'utilisez pas de glace produite avec de l'eau non bouillie. Si vous utilisez du lait maternisé pour nourrir votre enfant, utilisez du lait maternisé prêt à l'emploi. Veillez à ce que les animaux domestiques ne boivent pas d'eau non bouillie au préalable. [URL]
911 Outage Alert | [SENDING AGENCY] : un AVIS D'INTERRUPTION DU 9-1-1 est en vigueur pour [LOCATION]. En cas d'urgence, veuillez contacter la police, les pompiers, les services médicaux ou tout autre service d'urgence directement en appelant leur numéro de téléphone local. Si vous composez le 9-1-1, vous risquez de ne pas obtenir d'aide. [URL]
Avalanche Warning | [SENDING AGENCY] : un AVIS D'AVALANCHE pour [LOCATION] est en vigueur jusqu'à [TIME]. Une neige instable, qui atteint des vitesses élevées en mouvement, peut se produire rapidement et entraîner des blessures ou la mort, bloquer les routes et causer des dégâts matériels dans les zones touchées. QUITTEZ les zones situées à côté de [LOCATION]. Ne retournez pas dans les zones impactées par l'ordre d'évacuation à moins d'avoir reçu la permission des autorités locales. Les déplacements dans ces zones sont déconseillés. Les avalanches peuvent couvrir de longues distances. [URL]
Fire Warning | [SENDING AGENCY] : un AVIS D'INCENDIE pour [LOCATION] est en vigueur jusqu'à [TIME]. Évacuez votre famille et vos animaux de compagnie dès maintenant, sans plus attendre. La visibilité dans la région va diminuer et les routes risquent d'être bloquées. Si vous ne partez pas maintenant, vous risquez d'être bloqué, blessé ou tué. Quittez les zones situées près de [LOCATION]. Attendez-vous à une visibilité réduite, à une forte fumée et à des difficultés respiratoires. Soyez prudent en conduisant. Faites attention au personnel des services de sécurité publique opérant dans la zone et suivez leurs instructions. [URL]
Hazardous Materials Warning | [SENDING AGENCY] : un déversement de MATIÈRES DANGEREUSES s'est produit à [TIME] à [LOCATION]. Le contact avec ces matières peut entraîner des difficultés respiratoires, une perte de coordination, une sensation de brûlure dans les yeux, le nez, la gorge ou les poumons, des nausées et, éventuellement, la mort. QUITTEZ la zone située près de [LOCATION]. SI VOUS CONDUISEZ pour évacuer la zone, gardez les fenêtres et les bouches d'aération de la voiture fermées. NE RETOURNEZ PAS dans la zone après évacuation à moins d'avoir reçu la permission des autorités locales. [URL]

German Templates
Tornado Emergency | [SENDING AGENCY]: Ein TORNADONOTSTAND ist für [LOCATION] bis [TIME] in Kraft. Ein Tornado wurde in diesem Gebiet gesichtet. Es handelt sich um eine lebensbedrohliche Situation. Suchen Sie sofort Schutz in einem Keller oder Innenraum im untersten Stockwerk eines stabilen Gebäudes. Wenn Sie sich im Freien, in einem Wohnmobil oder in einem Fahrzeug befinden, begeben Sie sich in den nächstgelegenen stabilen Unterstand und schützen Sie sich vor umherfliegenden Gegenständen. Informieren Sie sich in den Medien. [URL]
Tornado Warning | [SENDING AGENCY]: Eine TORNADOWARNUNG ist für [LOCATION] bis [TIME] in Kraft. Suchen Sie sofort Schutz in einem Keller oder Innenraum im untersten Stockwerk eines stabilen Gebäudes. Wenn Sie sich im Freien, in einem Wohnmobil oder in einem Fahrzeug befinden, begeben Sie sich in den nächstgelegenen stabilen Unterstand und schützen Sie sich vor umherfliegenden Gegenständen. Informieren Sie sich in den Medien. [URL]
Flash Flood Emergency | [SENDING AGENCY] Ein STURZFLUTNOTSTAND ist für [LOCATION] bis [TIME] in Kraft. Dies ist eine äußerst gefährliche und lebensbedrohliche Situation. Versuchen Sie nicht zu fahren, es sei denn, Sie fliehen aus Gebiet, das überschwemmt sein könnte oder für das ein Evakuierungsbefehl gilt. [URL]
Flash Flood Warning | [SENDING AGENCY]: Eine STURZFLUTWARNUNG ist für [LOCATION] bis [TIME] in Kraft. Dies ist eine äußerst gefährliche und lebensbedrohliche Situation. Versuchen Sie nicht zu fahren, es sei denn, Sie fliehen aus Gebiet, das überschwemmt sein könnte oder für das ein Evakuierungsbefehl gilt. [URL]
Severe Thunderstorm Warning | [SENDING AGENCY] Ëine Warnung vor SCHWEREM GEWITTER mit ZERSTÖRERISCHEN Windgeschwindigkeiten von 128 Kilometer pro Stunde ist für [LOCATION] bis [TIME] in Kraft. Suchen Sie Schutz in einem stabilen Gebäude, fern von Fenstern. Umherfliegende Gegenstände können für Personen, die sich außerhalb eines stabilen Unterstands befinden, tödlich sein. [URL]
Snow Squall Warning | [SENDING AGENCY] Eine SCHNEEBÖENWARNUNG ist für [LOCATION] bis [TIME] in Kraft. Verlangsamen oder verzögern Sie die Fahrt! Seien Sie auf einen plötzlichen Abfall der Sichtverhältnisse und vereiste Straßen bei starkem Schneefall vorbereitet. [URL]
Dust Storm Warning | [SENDING AGENCY] Eine STAUBSTURMWARNUNG ist für [LOCATION] bis [TIME] in Kraft. Seien Sie auf einen plötzlichen Abfall der Sichtverhältnisse vorbereitet. Zur Seite fahren und am Leben bleiben! Fahren Sie bei schlechter Sicht von der Straße weg und stellen Sie Ihr Fahrzeug in die Parkposition. Schalten Sie das Licht aus und nehmen Sie den Fuß von der Bremse. Kleinkinder, ältere Menschen und Personen mit Atemproblemen sollten sofort Vorsichtsmaßnahmen ergreifen. [URL]
Hurricane Warning | [SENDING AGENCY] Eine ORKANWARNUNG ist für [LOCATION] wegen gefährlichen und schädlichen Winden bis [TIME] in Kraft. Diese Warnung wird bis zu 36 Stunden vor Beginn der gefährlichern Bedingungen ausgegeben. Ergreifen Sie Maßnahmen zum Schutz von Leben und Eigentum. Halten Sie Lebensmittel, Wasser, Bargeld, Treibstoff und Medikamente für mehr als 3 Tage bereit. BEFOLGEN SIE DIE ANWEISUNGEN DER ÖRTLICHEN BEAMTEN. [URL]
Storm Surge Warning | [SENDING AGENCY] Eine STURMFLUTWARNUNG ist für [LOCATION] wegen der Gefahr lebensgefährlicher Überschwemmungen bis [TIME] in Kraft. Diese Warnung wird bis zu 36 Stunden vor Beginn der gefährlichen Bedingungen ausgegeben. Ergreifen Sie Maßnahmen zum Schutz von Leben Eigentum. Befolgen Sie die Evakuierungsanweisungen für dieses Gebiet, um nicht zu ertrinken oder von den Rettungsdiensten abgeschnitten zuwerden. [URL]
Extreme Wind Warning | [SENDING AGENCY] Eine WARNUNG VOR EXTREMEM WIND ist für [LOCATION] wegen lebensbedrohlichen Windstärken bis [TIME] in Kraft. Suchen Sie JETZT Schutz in einen Innenraum eines stabilen Gebäudes, entfernt von Fenstern. Schützen Sie Ihren Kopf vor umherfliegenden Gegenständen. Gehen Sie NICHT ins Freie, wenn der Wind nachlässt. Der Wind wird schnell wieder gefährlich werden. [URL]
Test Alert | DIES IST EIN TEST des nationalen drahtlosen Notfallwarnsystems, ausgegeben von [SENDING AGENCY]. Der Zweck ist die Aurechterhaltung und Verbesserung der Alarm- und Warnfähigkeiten auf Bundes-, Landes-, lokaler, Stammes- und Territorialebene sowie die Bewertung der öffentlichen Alarm- und Warnfähigkeiten der Nation. Es besteht kein Handlungsbedarf für die Öffentlichkeit. [URL]
Tsunami Warning | [SENDING AGENCY] Eine TSUNAMIWARNUNG ist für [LOCATION] bis [TIME] in Kraft. Eine Reihe starker Wellen und starker Strömungen können die Küsten in Ihrer Nähe betreffen. Sie sind in Gefahr. Entfernend Sie sich von den Küstengewässern. Begeben Sie sich Sie sofort auf höheres Gelände oder ins Landesinnere. Halten Sie sich von der Küste fern, bis die örtlichen Behörden sagen, daß es sicher ist, zurückzukehren. [URL]
Earthquake Warning | ERDBEBEN ERKANNT! Hinlegen, in Deckung gehen, festhalten. Schützen Sie sich. [SENDING AGENCY] [URL]
Boil Water Advisory | [SENDING AGENCY] Ein ABKOCHGEBOT für Trinkwasser ist für [LOCATION] bis [TIME] in Kraft. Das Wasser in Ihrer Gemeinde kann Sie krank machen. Verwenden Sie abgepacktes Wasser, falls verfügbar. Trinken Sie kein Leitungswasser oder gefiltertes Wasser, kochen Sie nicht damit, putzen Sie sich nicht damit die Zähne und reinigen Sie Ihr Heim nicht damit, bevor Sie es nicht abgekocht haben. Bringen Sie das Wasser DREI MINUTEN lang zum Kochen. Lassen Sie das Wasser vor dem Gebrauch abkühlen. Verwenden Sie kein Eis, das mit nicht abgekochtem Wasser hergestellt wurde. Wenn Sie Ihr Kind mit Säuglingsnahrung füttern, verwenden Sie nur gebrauchsfertige Säuglingsnahrung. Achten Sie darauf, dass Haustiere kein ungekochtes Leitungswasser trinken. [URL]
911 Outage Alert | [SENDING AGENCY] Ein 9-1-1-AUSFALLALARM ist für [LOCATION] in Kraft. Bitte wenden Sie sich in Notfällen direkt an die Polizei, die Feuerwehr, die Rettungsdienste oder andere Notdienste unter den jeweiligen örtlichen Telefonnummern. Wenn Sie 9-1-1 wählen, erhalten Sie möglicherweise keine Hilfe. [URL]
Avalanche Warning | [SENDING AGENCY] Eine LAWINENWARNUNG ist in [LOCATION] bis [TIME] in Kraft. Instabiler und gleitender Schnee kann schnell zu Verletzungen oder zum Tod führen und in den betroffenen Gebieten Straßen blockieren und Eigentümer beschädigen. VERLASSEN Gebiete in der Nähe von [LOCATION]. Kehren Sie nach der Evakuierung NICHT in das Gebiet zurück, bis Sie von den örtlichen Behörden dazu aufgefordert werden. Es wird nicht empfohlen, in das Gebiet zu reisen. Lawinen können weite Strecken zurücklegen. [URL]
Fire Warning | [SENDING AGENCY] Eine BRANDWARNUNG ist in [LOCATION] bis [TIME] in Kraft. Evakuieren Sie Ihre Familie und Haustiere jetzt, zögern Sie nicht. Die Sicht in dem Gebiet wird eingeschränkt und die Straßen können blockiert werden. Wenn Sie das Gebiet nicht sofort verlassen, könnten Sie eingeschlossen, verletzt oder getötet werden. Verlassen Sie Gebiete in der Nähe von [LOCATION]. Rechnen Sie mit eingeschränkter Sicht, starkem Rauch und Atembeschwerden. Seien Sie beim Fahren vorsichtig. Halten Sie Ausschau nach Sicherheitskräften, die im Gebiet tätig sind, und folgen Sie deren Anweisungen. [URL]
Hazardous Materials Warning | [SENDING AGENCY]: In Ihrer Region sind gefährliche Stoffe freigesetzt worden. Eine Exposition kann zu Atembeschwerden, Koordinationsverlust, Brennen in Augen, Nase, Rachen oder Lunge, Übelkeit und möglicherweise zum Tod führen. VERLASSEN Sie diesen Bereich. Wenn Sie in einen Evakuierungsbereich fahren, halten Sie die Fenster und Lüftungsschlitze des Autos geschlossen. Kehren Sie nach der Evakuierung NICHT in das Gebiet zurück, bis Sie von den örtlichen Beamten dazu aufgefordert werden. [URL]

Haitian Creole Templates
Tornado Emergency | [SENDING AGENCY]: Yon IJANS TORNAD ki an vigè nan [LOCATION] jiska [TIME]. Toubiyon te lokalize nan zòn sa a. Sa a se yon sitiyasyon ki menase lavi. Pran abri kounye a nan yon sousòl oswa yon chanm enteryè nan etaj ki pi ba a nan yon bilding ki solid. Si w deyò, nan yon kay mobil, oswa nan yon machin, ale nan abri sibstansyèl ki pi pre a epi pwoteje tèt ou kont objè k ap vole yo. Tcheke medya yo. [URL]
Tornado Warning | [SENDING AGENCY]: Yon AVÈTISMAN POU TOUBIYON ki an vigè nan [LOCATION] jiska [TIME]. Pran abri nan yon sousòl kounye a oswa yon chanm enteryè sou etaj ki pi ba nan yon bilding ki solid. Si w deyò, nan yon kay mobil, oswa nan yon machin, deplase al nan abri solid ki pi pre a epi pwoteje tèt ou kont objè k ap vole yo. Tcheke medya yo. [URL]
Flash Flood Emergency | [SENDING AGENCY]: YON IJANS INONDASYON RAPID an vigè pou zòn sa a [LOCATION] jiska [TIME]. Sa a se yon sitiyasyon trè danjere e ki menase lavi. Pa eseye vwayaje sof si w ap sove kite yon zòn ki ka sibi inondasyon oswa ou anba yon lòd evakyasyon. [URL]
Flash Flood Warning | [SENDING AGENCY]: Yon AVÈTISMAN SOU INONDASYON RAPID ki an vigè nan [LOCATION] jiska [TIME]. Sa se yon sitiyasyon danjere ak ki menase lavi. Pa eseye vwayaje amwens ke w ap kouri kite yon zòn ki ka inonde oswa ou anba yon lòd evakyasyon. [URL]
Severe Thunderstorm Warning | [SENDING AGENCY]: Yon AVÈTISMAN POU GWO TANPET LORAJ ki an vigè pou zòn sa a [LOCATION] jiska [TIME] pou van DESTRIKTIF a 80 mil alè. Pran abri nan yon bilding ki solid, lwen fenèt yo. Objè k ap Vole yo ka danjere pou moun ki deyò yon abri solid. [URL]
Snow Squall Warning | [SENDING AGENCY]: Yon AVÈTISMAN POU LANÈJ TOUDENKOU ki an vigè pou zòn sa a [LOCATION] jiska [TIME]. Ralanti oswa ranvwaye vwayaj ou! Pare pou yon rediksyon toudenkou nan vizibilite toupre zewo ak wout ki gen glas nan gwo nèj. [URL]
Dust Storm Warning | [SENDING AGENCY]: Yon AVÈTISMAN POU TANPÈT POUSYÈ pou zòn sa a [LOCATION] jiska [TIME]. Prepare w pou yon vizibilite ki tonbe a zewo toudenkou. Ale sou kote, rete vivan! Lè vizibilite bese, rale tèt ou byen lwen arebò wout la epi mete machin ou a sou pak. Etenn limyè yo epi retire pye ou sou fren an. Tibebe, granmoun aje yo ak moun ki gen pwoblèm respiratwa ankouraje pou yo pran prekosyon. [URL]
Hurricane Warning | [SENDING AGENCY]: YON AVÈTISMAN POU SIKLÒN an efè pou zòn sa a [LOCATION] pou van ki danjere e ki ka lakòz domaj jiska [TIME]. Avètisman sa a bay jiska 36 èdtan anvan kondisyon danjere yo kòmanse. Prese fè efò pou w pwoteje lavi ak pwopriyete. Gen manje, dlo, lajan kach, gaz, ak medikaman pou 3+ jou. SWIV ENSTRIKSYON OFISYÈ LOCAL YO. [URL]
Storm Surge Warning | [SENDING AGENCY]: Yon AVÈTISMAN POU TANPÈT AK GWO VAG an efè pou zòn sa a [LOCATION] pou danje inondasyon ki menase lavi jiska [TIME]. Avètisman sa a bay jiska 36 èdtan anvan kondisyon danjere yo kòmanse. Prese fè efò pou w pwoteje lavi ak pwopriyete. Swiv lòd evakyasyon yo si yo bay yo pou zòn sa a, pou evite nwaye oswa koupe desèvis ijans yo. [URL]
Extreme Wind Warning | [SENDING AGENCY]: YON AVÈTISMAN POU VAN EKSTRÈM ki an vigè nan [LOCATION] pou danje imedyat van k ap menase lavi jiska [TIME]. Pran abri kounye a nan yon chanm enteryè nan yon bilding ki solid, lwen fenèt yo. Pwoteje tèt ou kont objè k ap vole yo. PA soti deyò si van an kalme! Nan van yo pral vin danjere byen vit ankò. [URL]
Test Alert | SA SE YON TÈS Sistèm Nasyonal Avètisman San Fil pou Ijans la voye pa [SENDING AGENCY]. Objektif la se kenbe ak amelyore kapasite alèt ak avètisman nan nivo federal, eta, lokal, Tribi ak teritoryal epi evalye kapasite alèt ak avètisman piblik nasyon an. Piblik la pa gen okenn aksyon li oblije pran. [URL]
Tsunami Warning | [SENDING AGENCY]: Yon AVÈTISMAN POU TSUNAMI ki an vigè nan [LOCATION] jiska [TIME]. Yon seri vag pwisan ak kouran fò ka afekte kòt ki toupre w yo. Ou an danje. Ale lwen dlo kotyè yo. Ale nan tè wo oswa ki andedan kounye a. Rete lwen kòt la jiskaske otorite lokal yo di li an sekirite pou w retounen. [URL]
Earthquake Warning | TRANBLEMAN TÈ DETEKTE! Bese, kouvri, kenbe. Pwoteje tèt ou. [SENDING AGENCY] [URL]
Boil Water Advisory | [SENDING AGENCY]: Yon KONSÈY POU BOUYI DLO te lanse pou [LOCATION] ki ap rete an vigè jiska [TIME]. Dlo nan kominote w la ka fè w malad. Sèvi ak dlo nan boutèy si sa disponib. Pa bwè, kwit manje, bwose dan ou, oswa netwaye kay ou ak dlo tiyo oswa dlo filtre pa anvan ou bouyi li. Fè dlo a bouyi woule an plen PANDAN TWA MINIT. Si w itilize fòmil pou bay pitit ou manje, sèvi ak fòmil ki pare pou itilize. Asire w ke bèt kay pa bwè dlo ki pa te bouyi. Tcheke medya lokal yo. [URL]
911 Outage Alert | [SENDING AGENCY]: Yon AVÈTISMAN ENTÈRIPSYON 9-1-1 nan zòn sa a [LOCATION]. Tanpri kontakte lapolis, ponpye, medikal, oswa lòt sèvis ijans dirèkteman nan nimewo telefòn lokal yo nan ka ijans. Si w rele 9-1-1, ou ka pa jwenn èd. [URL]
Avalanche Warning | [SENDING AGENCY]: Yon AVÈTISMAN POU LAVALAS ki an vigè nan zòn sa a nan [LOCATION] jiska [TIME]. Nèj ki enstab, an mouvman rapid ka rive byen vit, sa ka lakòz blesi oswa lanmò epi li ka bloke wout ak domaje pwopriyete nan zòn ki afekte yo. KITE zòn ki toupre [LOCATION]. PA retounen nan zòn nan apre evakyasyon an jiskaske otorite lokal yo dirije w. Vwayaje nan zòn nan pa rekòmande. Lavalas gendwa kouvri a yon distans ki long. [URL]
Fire Warning | [SENDING AGENCY]: Yon AVÈTISMAN POU DIFE nan zòn [LOCATION] ki ap rete an vigè jiska [TIME]. Evakye fanmi w ak bèt kay ou kounye a, pa pran reta. Vizibilite nan zòn nan pral redwi epi wout yo ka vin bloke. Si ou pa kite kounye a, ou ka bloke, blese, oswa mouri. Atann ou a vizibilite ki diminye, gwo lafimen, ak difikilte pou respire. Fè atansyon lè w ap kondwi. Siveye pèsonèl sekirite piblik k ap travay nan zòn nan epi swiv enstriksyon yo. [URL]
Hazardous Materials Warning | [SENDING AGENCY] YON MATERYÈL DANJERE ki te lage nan zòn ou an a [TIME] nan [LOCATION]. Ekspoze a li ka lakòz difikilte pou respire, pèt kowòdinasyon, sansasyon boule nan je, nen, gòj, oswa poumon, kè plen, e pètèt lanmò. KITE zòn ki toupre [LOCATION]. SI W ap KONDWI pou w evakye zòn nan, kenbe fenèt ak vantilasyon machin yo fèmen. PA retounen nan zòn nan apre evakyasyon an jiskaske otorite lokal yo dirije w. [URL]

BILLING CODE 6712-01-P

BILLING CODE 6712-01-C

Italian Templates
Tornado Emergency | [SENDING AGENCY]: Un avviso di EMERGENZA TORNADO è stato emesso per [LOCATION] fino alle [TIME]. Tornado avvistato in zona. Questo evento rappresenta un pericolo per la vita. Si esortano gli utenti a mettersi al riparo in un seminterrato o in una stanza cieca al piano più basso di un edificio resistente. Chi si trova all'aperto, in una casa mobile o in un veicolo, deve mettersi al riparo in una struttura robusta più vicina e proteggersi da oggetti volanti. Tenersi sempre aggiornati sui mezzi di comunicazione. [URL]
Tornado Warning | [SENDING AGENCY]: Un ALLARME TORNADO è stato emesso per [LOCATION] fino alle [TIME]. Ripararsi a partire da ora in un seminterrato o in una stanza interna al piano più basso di un edificio robusto. Se ci si trova all'aperto, in una casa prefabbricata o in un veicolo bisogna cercare rifugio in un edificio robusto più vicino e proteggetersi da oggetti volanti. Tenersi sempre aggiornati sui mezzi di comunicazione. [URL]
Flash Flood Emergency | [SENDING AGENCY]: EMERGENZA ALLUVIONE IMMEDIATA in vigore per [LOCATION] fino alle [TIME]. Si tratta di una situazione estremamente pericolosa, anche per la vita. Si esortano gli utenti a non mettersi in viaggio a meno che non ci si stia allontanando da un'area soggetta ad inondazioni o ad un ordine di evacuazione. [URL]
Flash Flood Warning | [SENDING AGENCY]: ALLERTA ALLUVIONE IMMEDIATA in vigore per [LOCATION] fino alle [TIME]. Si tratta di una situazione estremamente pericolosa, anche per la vita. Si esortano gli utenti a non mettersi in viaggio a meno che non ci si stia allontanando da un'area soggetta ad inondazioni o ad un ordine di evacuazione. [URL]
Severe Thunderstorm Warning | [SENDING AGENCY]: Un AVVISO DI FORTI TEMPORALI è in vigore per [LOCATION] fino alle [TIME] caratterizzati da VIOLENTE raffiche di vento che potrebbero raggiungere quasi 130 chilometri (80 miglia) all'ora. Ripararsi all'interno di un edificio resistente e lontano dalle finestre. Oggetti volanti potrebbero causare danni letali a coloro che si trovano al di fuori di edifici robusti. [URL]
Snow Squall Warning | [SENDING AGENCY]: Un AVVISO BUFERA DI NEVE è in vigore per [LOCATION] fino alle [TIME]. Si esortano gli utenti che si trovano in viaggio di rallentare o di posticipare il viaggio! Gli utenti devono tenersi pronti a possibili perdite improvvise di visibilità, anche pressoché totale, e alla presenza di ghiaccio sul manto stradale in caso di forti nevicate. [URL]
Dust Storm Warning | [SENDING AGENCY]: Un AVVISO DI TEMPESTA DI SABBIA è in vigore per [LOCATION] fino alle [TIME]. Tenersi pronti ad un improvviso calo di visibilità fino a zero. Si esortano i guidatori di accostarsi per tenersi in sicurezza! Quando la visibilità diminuisce, accostarsi e parcheggiare il proprio veicolo. Spegnere le luci e tenere il piede lontano dal pedale del freno. Neonati, anziani e persone con patologie respiratorie sono invitati a prendere precauzioni. [URL]
Hurricane Warning | [SENDING AGENCY]: Un ALLARME URAGANO è in vigore per [LOCATION] fino alle [TIME], con venti pericolosi e dannosi. Il presente avviso viene emesso fino a 36 ore prima che si verifichino condizioni pericolose. Si esortano gli utenti ad affrettarsi a fare i dovuti preparativi per proteggere la propria vita e le proprietà. Avere a disposizione cibo, acqua, contanti, carburante e farmaci per più di 3 giorni. SEGUIRE LE ISTRUZIONI FORNITE DAI FUNZIONARI LOCALI. [URL]
Storm Surge Warning | [SENDING AGENCY]: Un AVVISO DI MAREGGIATA è in vigore per [LOCATION] fino alle [TIME], con pericolo di inondazioni potenzialmente letali. Il presente avviso viene emesso fino a 36 ore prima che si verifichino condizioni pericolose. Si esortano gli utenti ad affrettarsi a fare i dovuti preparativi per proteggere la propria vita e le proprietà. Seguire gli ordini di evacuazione applicabili a quest'area, per evitare di annegare o di non poter fare uso dei servizi di emergenza. [URL]
Extreme Wind Warning | [SENDING AGENCY]: Un AVVISO DI VENTO ESTREMO è in vigore per [LOCATION] fino alle [TIME], con pericolo immediato di raffiche di vento potenzialmente letali. Mettersi al riparo in QUESTO MOMENTO in una stanza cieca di un edificio resistente e lontano dalle finestre. Proteggersi da eventuali oggetti volanti. NON recarsi all'aperto fino a quando il vento non si sarà calmato! Raffiche di vento si verificano all'improvviso anche dopo periodi di calma. [URL]
Test Alert | QUESTO È UN TEST condotto dal Sistema nazionale di allarme di emergenza wireless. Lo scopo è quello di mantenere e migliorare le capacità di allerta e di allarme a livello federale, statale, locale, tribale e territoriale, e di valutare le capacità di allerta e di allarme pubblico della nazione. Non è richiesta alcuna azione da parte del pubblico. [URL]
Tsunami Warning | [SENDING AGENCY]: Un'ALLERTA TSUNAMI è in vigore per [LOCATION] fino alle [TIME]. Una serie di onde potenti e forti correnti potrebbero colpire le coste alla tua zona. Sei in pericolo. Allontanati dalla costa e spostati su terreni elevati o nell'entroterra. Tieniti lontano dalla costa finché le autorità locali non daranno l'autorizzazione al rientro. [URL]
Earthquake Warning | RILEVATO TERREMOTO! Stendersi sul pavimento, coprirsi e restare sul posto. Tenersi al sicuro. [SENDING AGENCY] [URL]
Boil Water Advisory | [SENDING AGENCY]: Un AVVISO DI BOLLITURA DELL'ACQUA è in vigore per [LOCATION] fino alle [TIME]. L'acqua nella tua comunità potrebbe causare problemi di salute. Se disponibile, utilizzare acqua in bottiglia. Non bere, cucinare, lavarsi i denti o fare pulizie con acqua del rubinetto o filtrata finché non sia stata bollita. Portare l'acqua ad ebollizione completa per TRE MINUTI. Lasciare raffreddare l'acqua prima dell'uso. Non utilizzare ghiaccio prodotto con acqua non bollita. Chi fa uso di latte artificiale per nutrire neonati deve utilizzare latte artificiale pronto all'uso. Assicurarsi che gli animali domestici non bevano acqua che non sia stata bollita. Tenersi sempre aggiornati sui mezzi di comunicazione locali. [URL]
911 Outage Alert | [SENDING AGENCY]: Un AVVISO DI INTERRUZIONE del servizio 9-1-1 è in vigore per [LOCATION]. In caso di emergenza, contattare la Polizia, i Vigili del Fuoco, i servizi medici o altri servizi di emergenza direttamente ai numeri di telefono locali. Il 9-1-1 potrebbe non essere disponibile in caso di emergenza. [URL]
Avalanche Warning | [SENDING AGENCY]: Un ALLARME VALANGHE è in vigore per [LOCATION] fino alle [TIME]. La neve instabile potrebbe mettersi rapidamente in movimento, causando lesioni o morte, bloccando strade e danneggiando proprietà nelle aree colpite. ALLONTANARSI da questa zona. NON ritornare nell'area finché non siano i funzionari locali ad emettere il permesso di rientro. Si sconsiglia di recarsi presso aree soggette a valanghe. Le valanghe possono attraversare anche lunghe distanze. [URL]
Fire Warning | [SENDING AGENCY]: Un AVVISO INCENDIO è in vigore per [LOCATION] fino alle [TIME]. Abbandonare immediatamente l'area con la propria famiglia ed eventuali animali domestici, non attardarsi. La visibilità nell'area sarà ridotta e le strade potrebbero essere bloccate. Chi si attarda ad evacuare potrebbe restare intrappolato, ferito o perire. Aspettarsi di incontrare visibilità ridotta, fumo pesante e difficoltà respiratorie. Fare attenzione durante la guida. Prestare attenzione al personale di pubblica sicurezza che opera nella zona e seguire le loro istruzioni. [URL]
Hazardous Materials Warning | [SENDING AGENCY]: Fuoriuscita di MATERIALI PERICOLOSI a [LOCATION] fino alle [TIME]. L'esposizione può causare difficoltà di respirazione, perdita di coordinazione, sensazione di bruciore agli occhi, al naso, alla gola o ai polmoni, nausea e possibilmente il decesso. ALLONTANARSI da questa zona. CHI SI METTE ALLA GUIDA per evacuare l'area deve tenere chiusi i finestrini e le prese d'aria dell'auto. NON ritornare nell'area finché non siano i funzionari locali ad emettere il permesso di rientro. [URL]

BILLING CODE 6712-01-P

BILLING CODE 6712-01-C

Portuguese Templates
Tornado Emergency | [SENDING AGENCY]: Um AVISO DE EMERGÊNCIA DE TORNADO está em vigor para [LOCATION] até [TIME]. Um tornado foi avistado nesta região. Esta é uma situação de risco de vida. Procure imediatamente abrigo em um porão ou em uma sala interna no andar mais baixo de um edifício sólido e seguro. Se você estiver ao ar livre, em uma casa móvel ou em um veículo, dirija-se ao abrigo seguro mais próximo e proteja-se de objetos voadores. Acompanhe a cobertura da mídia local. [URL]
Tornado Warning | [SENDING AGENCY]: Um ALERTA DE TORNADO está em vigor para [LOCATION] até [TIME]. Abrigue-se agora em um porão ou em uma sala interna no andar mais baixo de um edifício seguro. Se você estiver ao ar livre, em uma casa móvel ou em um veículo, dirija-se ao abrigo sólido e seguro mais próximo e proteja-se de objetos voadores. Acompanhe a cobertura da mídia local. [URL]
Flash Flood Emergency | [SENDING AGENCY]: Um AVISO DE EMERGÊNCIA DE INUNDAÇÕES REPENTINAS está em vigor para [LOCATION] até [TIME]. Esta é uma situação extremamente perigosa e de risco de vida. Não tente viajar, a menos que esteja deixando uma área que pode inundar ou está sob uma ordem de evacuação. [URL]
Flash Flood Warning | [SENDING AGENCY]: Um ALERTA DE EMERGÊNCIA DE INUNDAÇÕES REPENTINAS está em vigor para [LOCATION] até [TIME]. Esta é uma situação extremamente perigosa e de risco de vida. Não tente viajar, a menos que esteja deixando uma área que pode inundar ou está sob uma ordem de evacuação. [URL]
Severe Thunderstorm Warning | [SENDING AGENCY]: Um AVISO DE TEMPESTADE SEVERA está em vigor para [LOCATION] até [TIME] para ventos DESTRUTIVOS de 80 milhas por hora. Procure abrigo dentro de um abrigo seguro, longe das janelas. Os objetos voadores podem ser fatais para aqueles sem abrigo. [URL]
Snow Squall Warning | [SENDING AGENCY]: Um AVISO DE TEMPESTADE DE NEVE está em vigor para [LOCATION] até [TIME]. Diminua a velocidade ou adie a sua viagem! Prepare-se para uma queda repentina de visibilidade e gelo nas estradas em caso de neve intensa. [URL]
Dust Storm Warning | [SENDING AGENCY]: Um AVISO DE TEMPESTADE DE POEIRA está em vigor para [LOCATION] até [TIME]. Esteja preparado para uma queda repentina na visibilidade. Pare no acostamento, fique vivo! Quando a visibilidade diminuir, pare seu veículo fora da estrada. Apague as luzes e tire o pé do freio. Crianças, idosos e pessoas com dificuldade para respirar devem tomar precauções. [URL]
Hurricane Warning | [SENDING AGENCY]: Um AVISO DE FURACÃO está em vigor para [LOCATION] devido a ventos perigosos até [TIME]. Este aviso é emitido até 36 horas antes do início das condições perigosas. Tome medidas para proteger a vida e a propriedade. Tenha comida, água, dinheiro, combustível e medicamentos por 3+ dias. SIGA AS INSTRUÇÕES DAS AUTORIDADES LOCAIS. [URL]
Storm Surge Warning | [SENDING AGENCY]: Um ALERTA DE MARÉ DE TEMPESTADE (RESSACA) está em vigor para [LOCATION] para o perigo de inundações potencialmente fatais até [TIME]. Este alerta é emitido até 36 horas antes do início das condições perigosas. Tome medidas para proteger a vida e a propriedade. Siga as ordens de evacuação se forem emitidas para esta região para evitar afogamentos ou ficar sem acesso aos serviços de emergência. [URL]
Extreme Wind Warning | [SENDING AGENCY]: Um AVISO DE VENTOS EXTREMOS está em vigor para [LOCATION] pelo perigo imediato de ventos potencialmente fatais até [TIME]. Proteja-se AGORA em uma sala no interior de um prédio seguro, longe das janelas. Proteja sua cabeça de objetos voadores. NÃO saia do abrigo se o vento acalmar! Os ventos rapidamente se tornarão perigosos novamente. [URL]
Test Alert | ESTE É UM TESTE do Sistema Nacional de Alertas de Emergência Sem Fio enviado por/pela [SENDING AGENCY]. O objetivo é manter e melhorar as capacidades de aviso e alerta a nível federal, estadual, local, tribal e territorial e avaliar as capacidades públicas de aviso e alerta do país. Não é necessária qualquer ação por parte do público. [URL]
Tsunami Warning | [SENDING AGENCY]: Um ALERTA DE MAREMOTO está em vigor para [LOCATION] até [TIME]. Uma série de ondas poderosas e correntes fortes podem afetar o litoral perto de você. Você está em perigo. Afaste-se das águas costeiras. Vá imediatamente para um local elevado ou para o interior. Mantenha-se longe do litoral até as autoridades locais informarem que é seguro voltar. [URL]
Earthquake Warning | TERREMOTO DETECTADO! Abaixe-se, proteja-se e aguarde. [SENDING AGENCY] [URL]
Boil Water Advisory | [SENDING AGENCY]: Um ALERTA PARA A FERVURA DE ÁGUA está em vigor para [LOCATION] até [TIME]. A água na sua região pode deixá-lo doente. Use água engarrafada, se disponível. Não beba, cozinhe, escove os dentes ou limpe a casa com água da torneira ou água filtrada até ser fervido. Deixe a água ferver por TRÊS MINUTOS. Deixe a água esfriar antes de usar. Não use gelo feito com água que não tenha sido fervida. Se você usa fórmula para alimentar seu filho, use fórmula pronta para consumo. Certifique-se de que os animais de estimação não bebam água que não tenha sido fervida. [URL]
911 Outage Alert | [SENDING AGENCY]: Um ALERTA DE INTERRUPÇÃO DO SERVIÇO 9-1-1 está em vigor para [LOCATION]. Em caso de emergência, entre em contato com a polícia, bombeiros, médicos ou outros serviços de emergência diretamente por meio dos seus números de telefone locais. É possível você não conseguir ajuda ao discar 9-1-1. [URL]
Avalanche Warning | [SENDING AGENCY]: Um ALERTA DE AVALANCHE está em vigor para [LOCATION] até [TIME]. Neve instável e em movimento rápido pode ocorrer rapidamente, causando ferimentos ou morte e pode bloquear estradas e danificar propriedades nas áreas afetadas. SAIA desta área. NÃO retorne à área após a evacuação até receber instruções das autoridades locais. Não é recomendado viajar na região. As avalanches podem percorrer longas distâncias. [URL]
Fire Warning | [SENDING AGENCY]: Um AVISO DE INCÊNDIO está em vigor para [LOCATION] até [TIME]. Evacue sua família e animais de estimação agora, não demore. A visibilidade na região estará prejudicada e as estradas podem ficar bloqueadas. Se você não sair agora, você pode ficar preso, ferido ou morto. SAIA das áreas próximas de [LOCATION]. Espere por visibilidade reduzida, fumaça pesada e dificuldade para respirar. Tenha cuidado ao dirigir. Fique atento ao pessoal de segurança pública que atua na região e siga as suas instruções. [URL]
Hazardous Materials Warning | [SENDING AGENCY]: Houve um vazamento de SUBSTÂNCIAS PERIGOSAS às [TIME] em [LOCATION]. A exposição pode causar dificuldade para respirar, perda de coordenação, sensação de queimação nos olhos, nariz, garganta ou pulmões, náuseas e, possivelmente, morte. SAIA das regiões próximas de [LOCATION]. Se estiver CONDUZINDO UM VEÍCULO para evacuar a área, mantenha os vidros e saídas de ar do carro fechados. NÃO retorne à área após a evacuação até receber instruções das autoridades locais. [URL]

BILLING CODE 6712-01-P

BILLING CODE 6712-01-C

Spanish Templates
Tornado Warning | [SENDING AGENCY]: UNA EMERGENCIA POR TORNADO está en efecto en [LOCATION] hasta [TIME]. Un tornado se ha detectado en esta área. Es una situación con peligro de muerte. Resguárdese ahora en un sótano o en una habitación interior en el piso más bajo de un edificio resistente. Si está al aire libre, en una casa rodante o vehículo, diríjase al edificio más cercano y resistente posible y protéjase de los escombros. Siga los medios de comunicación. [URL]
Tornado Emergency | [SENDING AGENCY]: UNA EMERGENCIA POR TORNADO está en efecto para [LOCATION] hasta [TIME]. Un tornado fue detectado en esta zona. Esta es una situación que pone en peligro la vida. Resguárdese de inmediato en un sótano o una habitación en el piso más bajo de un edificio resistente. Si se encuentra al aire libre, en una casa rodante o un vehículo, diríjase al edificio más cercano y resistente posible y protéjase de los escombros. Consulte los medios de comunicación. [URL]
Flash Flood Warning | [SENDING AGENCY]: UNA EMERGENCIA POR INUNDACIÓN REPENTINA está en efecto para [LOCATION] hasta [TIME]. La situación es extremadamente peligrosa y con riesgo de muerte. No intente movilizarse, a menos que esté huyendo de un área que pueda inundarse o con orden de evacuación. [URL]
Flash Flood Emergency | [SENDING AGENCY]: UNA EMERGENCIA POR INUNDACION REPENTINA está en efecto para [LOCATION] hasta [TIME]. Esta es una situación extremadamente peligrosa y potencialmente mortal. No intente trasladarse a menos que esté huyendo de una zona que pueda inundarse o con orden de evacuación. [URL]
Severe Thunderstorm Warning | [SENDING AGENCY]: UNA ADVERTENCIA DE FUERTE TORMENTA ELÉCTRICA está en efecto para [LOCATION] hasta [TIME] por vientos DESTRUCTIVOS de 80 millas por hora. Resguárdese en un edificio resistente, lejos de las ventanas. Los escombros impulsados por el viento pueden ser mortales para quienes no estén resguardados. [URL]
Snow Squall Warning | [SENDING AGENCY]: UNA ADVERTENCIA DE TORMENTA DE NIEVE está en efecto para [LOCATION] hasta [TIME] ¡Baje la velocidad o postergue su viaje! Prepárese para una repentina reducción o ausencia total de visibilidad y carreteras congeladas con intensas nevadas. [URL]
Dust Storm Warning | [SENDING AGENCY]: UNA ADVERTENCIA DE TORMENTA DE POLVO está en efecto para [LOCATION] hasta [TIME]. Prepárese para una repentina reducción o total ausencia de visibilidad. Deténgase y salga de la carretera. ¡No pierda su vida! Ponga el embrague de su vehículo en “estacionar.” Apague las luces y saque el pie del freno. Tome precauciones especialmente para niños, ancianos y personas con problemas respiratorios. [URL]
Hurricane Warning | [SENDING AGENCY]: UNA ADVERTENCIA DE HURACÁN está en efecto para [LOCATION] hasta [TIME] por vientos peligrosos y dañinos. Esta advertencia se emite hasta 36 horas antes de que las condiciones peligrosas comiencen. Tome medidas para proteger vidas y propiedad. Tenga alimentos, agua, dinero en efectivo, combustible y medicamentos para un mínimo de 3 días. SIGA LAS INSTRUCCIONES DE LAS AUTORIDADES LOCALES. [URL]
Storm Surge Warning | [SENDING AGENCY]: UNA ADVERTENCIA DE MAREJADA CICLÓNICA está en efecto para [LOCATION] hasta [TIME] por peligro de inundaciones con riesgo de muerte. Esta advertencia se emite hasta 36 horas antes de que las condiciones peligrosas comiencen. Tome medidas para proteger vidas y propiedad. Siga las órdenes de evacuación si se emiten para esta área, para evitar ahogarse o quedar aislado de los servicios de emergencia. [URL]
Extreme Wind Warning | [SENDING AGENCY]: Una ADVERTENCIA DE VIENTOS EXTREMADAMENTE FUERTES está en efecto para [LOCATION] hasta [TIME] por peligro inmediato de fuertes vientos con riesgo de muerte. Resguárdese AHORA en una habitación interior de un edificio resistente, lejos de las ventanas. Proteja su cabeza de los escombros. ¡NO salga aunque el viento se calme! Los vientos pronto volverán a ser peligrosos. [URL]
Test Alert | ESTA ES UNA PRUEBA del sistema nacional de alertas de emergencia inalámbricas (National Wireless Emergency Alert System) enviada por [SENDING AGENCY]. El propósito es mantener y mejorar las capacidades de alerta y advertencia a nivel federal, estatal, local, Tribal y territorial, y evaluar la capacidad de las alertas y advertencias públicas a nivel nacional. No se requiere ninguna acción por parte del público. [URL]
Tsunami Warning | [SENDING AGENCY]: UNA ADVERTENCIA DE TSUNAMI para [LOCATION] está en efecto hasta [TIME]. Una serie de grandes olas y fuertes corrientes pueden afectar las costas cercanas. Usted está en peligro. Aléjese ahora mismo de las aguas costeras y diríjase a terrenos elevados o hacia el interior. Manténgase alejado de la costa hasta que las autoridades le avisen que puede regresar sin peligro. [URL]
Earthquake Warning | ¡TERREMOTO DETECTADO! Agáchese, cúbrase, agárrese, protéjase. [SENDING AGENCY] [URL]
Boil Water Advisory | [SENDING AGENCY]: ¡ALERTA! HIERVA EL AGUA en [LOCATION] hasta [TIME]. El agua en su comunidad puede enfermarle. Use agua embotellada si está disponible. No beba agua del grifo, aunque esté filtrada; no la use para cocinar o lavarse los dientes ni para limpiar su hogar. Hierva el agua por TRES MINUTOS por lo menos. Enfríe el agua antes de usarla. No use hielo preparado con agua sin hervir. Si usa leche preparada para su bebé, use la que viene lista (no la que requiere agua). Asegúrese de que sus mascotas no beban agua sin hervir. [URL]
911 Outage Alert | [SENDING AGENCY]: UNA ALERTA POR INTERRUPCIÓN DE LOS SERVICIOS 9-1-1 está en efecto en [LOCATION]. En caso de emergencia, comuníquese directamente con la policía, los bomberos, los servicios médicos u otros servicios de emergencia, llamando a sus números locales. Si llama al 9-1-1, es posible que no reciba ayuda. [URL]
Avalanche Warning | [SENDING AGENCY]: UNA ADVERTENCIA DE AVALANCHA para [LOCATION] está en efecto hasta [TIME]. El rápido movimiento de nieve inestable puede ocurrir repentinamente, con peligro de daño físico o muerte, y puede bloquear caminos y dañar propiedades en las áreas afectadas. ABANDONE las áreas cercanas a [LOCATION]. NO vuelva al área tras la evacuación hasta que las autoridades locales se lo indiquen. No se recomienda viajar en el área. Las avalanchas pueden alcanzar grandes distancias. [URL]
Fire Warning | [SENDING AGENCY] Una ADVERTENCIA DE INCENDIO en [LOCATION] está en efecto hasta [TIME]. Evacúe a su familia y mascotas ahora, sin demoras. La visibilidad del área disminuirá y los caminos pueden bloquearse. Si no sale ahora, podría quedar atrapado, resultar herido o morir. ABANDONE las áreas cercanas a [LOCATION]. Prepárese para una reducción de la visibilidad, denso humo y dificultad para respirar. Maneje con cuidado. Preste atención al personal de seguridad pública en el área y siga sus instrucciones. [URL]
Hazardous Materials Warning | [SENDING AGENCY]: UNA EMANACIÓN DE SUSTANCIAS PELIGROSAS ha ocurrido a las [TIME] en [LOCATION]. La exposición puede causar dificultades respiratorias, pérdida de coordinación, sensación de ardor en los ojos, nariz, garganta o pulmones, nausea y riesgo de muerte. ABANDONE las áreas cercanas a [LOCATION]. SI CONDUCE para evacuar el área, mantenga el vehículo con las ventanas y ventilaciones cerradas. NO VUELVA al área tras la evacuación a menos que las autoridades locales se lo indiquen. [URL]

Tagalog Templates
Tornado Emergency | [SENDING AGENCY]: May bisa ang EMERGENCY NG BUHAWI sa [LOCATION] hanggang [TIME]. May nakitang buhawi sa lugar na ito. Isa itong sitwasyon na nagbabanta sa buhay. Pumunta na sa isang silong o isang panloob na kuwarto sa pinakamababang palapag ng isang matibay na gusali. Kung nasa labas ka, sa isang mobile home, o sa isang sasakyan, lumipat sa pinakamalapit na matibay na silungan at protektahan ang iyong sarili mula sa lumilipad na mga bagay. Tingnan at suriin ang media. [URL]
Tornado Warning | [SENDING AGENCY]: May bisa ang BABALA SA BUHAWI sa [LOCATION] hanggang [TIME]. Pumunta na sa isang silong o isang panloob na kuwarto sa pinakamababang palapag ng isang matibay na gusali. Kung nasa labas ka, sa isang mobile home, o sa isang sasakyan, lumipat sa pinakamalapit na matibay na silungan at protektahan ang iyong sarili mula sa lumilipad na mga bagay. Tingnan at suriin ang media. [URL]
Flash Flood Emergency | [SENDING AGENCY]: May bisa ang EMERGENCY NG FLASH FLOOD para sa [LOCATION] hanggang [TIME]. Isa itong sitwasyon na lubhang mapanganib at nagbabanta sa buhay. Huwag subukang maglakbay maliban kung tumatakas ka sa isang lugar na maaaring bumaha o nasa ilalim ng isang utos ng paglikas. [URL]
Flash Flood Warning | [SENDING AGENCY]: May bisa ang BABALA SA FLASH FLOOD para sa [LOCATION] hanggang [TIME]. Isa itong sitwasyon na mapanganib at nagbabanta sa buhay. Huwag subukang maglakbay maliban kung tumatakas ka sa isang lugar na maaaring bumaha o nasa ilalim ng isang utos ng paglikas. [URL]
Severe Thunderstorm Warning | [SENDING AGENCY]: May bisa ang BABALA SA MALUBHANG BAGYO NA MAY KULOG AT KIDLAT para sa [LOCATION] hanggang [TIME] dahil sa MAPAMINSALANG hanging 80 milya kada oras. Sumilong sa isang matibay na gusali nangmalayo sa mga bintana. Maaaring nakamamatay ang lumilipad na mga bagay sa mga nasa labas ng matibay na silungan. [URL]
Snow Squall Warning | [SENDING AGENCY]: May bisa ang BABALA SA SNOW SQUALL para sa [LOCATION] hanggang [TIME]. Bagalan o ipagpaliban ang paglalakbay! Maging handa para sa biglaang pagbaba na halos zero visibility at sa nagyeyelong mga kalsada sa makapal na niyebe. [URL]
Dust Storm Warning | [SENDING AGENCY]: May bisa ang BABALA SA DUST STORM para sa [LOCATION] hanggang [TIME]. Maging handa para sa biglaang pagbaba sa zero visibility. Tumabi, Manatiling Buhay! Kapag bumaba ang visibility, huminto sa malayo sa kalsada at i-park ang iyong sasakyan. Patayin ang mga ilaw at alisin ang iyong paa sa preno. Hinihikayat na mag-ingat ang mga sanggol, matatanda at mga may problema sa paghinga. [URL]
Hurricane Warning | [SENDING AGENCY]: May Babala ng HURRICANE para sa [LOCATION] dahil sa mga mapanganib at mapaminsalang hangin na may bisa hanggang [TIME]. Ibinibigay ang babalang ito hanggang 36 na oras bago magsimula ang mga mapanganib na kondisyon. Magsagawa ng mga hakbang para maprotektahan ang buhay at ari-arian. Magkaroon ng pagkain, tubig, pera, gasolina, at mga gamot na tatagal ng 3+ araw. SUNDIN ANG MGA DIREKSYON MULA SA MGA LOKAL NA OPISYAL. [URL]
Storm Surge Warning | [SENDING AGENCY]: May bisa ang BABALA SA STORM SURGE para sa [LOCATION] dahil sa panganib ng nagbabanta sa buhay na pagbaha hanggang [TIME]. Ibinibigay ang babalang ito hanggang 36 na oras bago magsimula ang mga mapanganib na kondisyon. Magsagawa ng mga hakbang para ma protektahan ang buhay at ari-arian. Sundin ang mga utos sa paglikas kung ibinigay para sa lugar na ito para maiwasan ang pagkalunod o pagkaputol sa mga serbisyong pang-emergency. [URL]
Extreme Wind Warning | [SENDING AGENCY]: May bisa ang BABALA SA MATINDING HANGIN para sa [LOCATION] dahil sa agarang panganib ng mga hanging nagbabanta sa buhay hanggang [TIME]. Magtago NGAYON sa isang panloob na kuwarto ng isang matibay na gusali, malayo sa mga bintana. Protektahan ang iyong ulo mula sa mga lumilipad na bagay. HUWAG lumabas kapag kumalma ang hangin! Mabilis na magiging mapanganib muli ang hangin. [URL]
Test Alert | PAGTESTING ITO ng National Wireless Emergency Alert System na ipinadala ng [SENDING AGENCY]. Layunin nitong panatilihin at pagandahin ang mga kakayahan sa alert at babala sa mga antas ng pederal, estado, lokal, Tribal at teritoryal at para gawan ng ebalwasyon ang mga kakayahan sa pampublikong alert at babala ng bansa. Walang kinakailangang aksyon ng publiko. [URL]
Tsunami Warning | [SENDING AGENCY]: May bisa ang BABALA SA TSUNAMI para sa [LOCATION] hanggang [TIME]. Ang serye ng malalakas na alon at malakas na agos ay maaaring makaapekto sa mga baybayin na malapit sa iyo. Nasa panganib ka. Lumayo sa mga tubig sa baybayin. Lumipat kaagad sa mataas na lupa o sa loob ng inyong lugar. Lumayo sa baybayin hanggang sa sabihin ng mga lokal na opisyal na ligtas nang bumalik. [URL]
Earthquake Warning | NAKA-DETECT NG LINDOL! Umupo, Magtakip, Kumapit. Protektahan ang Iyong Sarili. [SENDING AGENCY] [URL]
Boil Water Advisory | [SENDING AGENCY]: May ibinigay na ALERT SA PAGPAPAKULO NG TUBIG para sa [LOCATION] ay may bisa hanggang [TIME]. Pwede kang magkasakit dahil sa tubig mula sa komunidad mo. Gumamit ng nakaboteng tubig kung mayroon nito. Huwag uminom, magluto, magsepilyo ng iyong ngipin, o linisin ang iyong tahanan gamit ang gripo o sinalang tubig hanggang na pakuluan mo ito. Pakuluan ang tubig sa loob ng TATLONG MINUTO. Palamigin ang tubig bago gamitin. Huwag gumamit ng yelo na gawa sa tubig na hindi pa pinakuluan. Kung gumagamit ka ng formula para painumin sa iyong anak, gumamit ng ready-to-use formula. Siguraduhin na hindi umiinom pinakuluan ang mga alagang hayop ng tubig na hindi pa. [URL]
911 Outage Alert | [SENDING AGENCY]: May bisa ang ALERT SA PAGKWALA NG 9-1-1 sa [LOCATION] hanggang [TIME]. Pakikontak ang pulisya, bumbero, medikal, o iba pang mga serbisyong pang-emergency nang direkta sa kanilang mga lokal na numero ng telepono kung sakaling magkaroon ng emergency. Kung magda-dial ka sa 9-1-1, maaaring hindi ka makakuha ng tulong. [URL]
Avalanche Warning | [SENDING AGENCY]: May bisa ang BABALA SA AVALANCE sa [LOCATION] hanggang [TIME]. Maaring mabilis na magkaroon ng mabuway at mabilis na gumagalaw niyebe, na nagdudulot ng pinsala o pagkamatay at maaaring humarang sa mga kalsada at makapinsala sa mga ari-arian sa mga apektadong lugar. UMALIS sa mga lugar na malapit sa [LOCATION]. HUWAG bumalik sa lugar pagkatapos ng paglikas hanggang sa iutos ng mga lokal na opisyal. Hindi inirerekomenda ang paglalakbay sa lugar na ito. Maaaring umabot sa malalayong distansya ang avalanche. [URL]
Fire Warning | [SENDING AGENCY] May bisa ang BABALA SA SUNOG sa [LOCATION] hanggang [TIME]. Ilikas ang iyong pamilya at mga alagang hayop ngayon, huwag mag-antala. Mababawasan ang visibility sa lugar at maaaring maharangan ang mga kalsada. Kung hindi ka aalis ngayon, maaari kang makulong, masugatan, o mamatay. UMALIS sa mga lugar na malapit sa [LOCATION]. Asahan na mabawasan ang visibility, matinding usok, at kahirapan sa paghinga. Mag-ingat sa pagmamaneho. Abangan ang mga public safety personnel na nagtatrabaho sa lugar at sundin ang kanilang mga direksyon. [URL]
Hazardous Materials Warning | [SENDING AGENCY]: May lumabas na MGA MAPANGANIB NA MATERYAL noong [TIME] sa [LOCATION]. Maaaring magdulot ang pagkalantad ng kahirapan sa paghinga, kawalan ng koordinasyon, pakiramdam na napapaso ang mga mata, ilong, lalamunan, o baga, pagduduwal, at posibleng pagkamatay. UMALIS sa mga lugar na malapit sa [LOCATION]. KUNG NAGMAMANEHO para lumikas sa lugar, panatilihing nakasara ang mga bintana at vent ng sasakyan. HUWAG bumalik sa lugar pagkatapos ng paglikas hanggang iutos ng mga lokal na opisyal. [URL]

BILLING CODE 6712-01-P

BILLING CODE 6712-01-C

Ordering Clauses

54. Accordingly it is ordered, pursuant to the authority contained in sections 1, 2, 4(i), 4(n), 5(c), 301, 303(b), 303(e), 303(g), 303(j), 303(r), 307, 309, 316, 403, and 706 of the Communications Act of 1934, as amended, 47 U.S.C. 151, 152, 154(i), 154(n), 155(c), 301, 303(b), 303(e), 303(g), 303(j), 303(r), 307, 309, 403, and 606, as well as by sections 602(a), (b), (c), (f), 603, 604 and 606 of the Warning Alert and Response Network (WARN) Act, 47 U.S.C. 1201(a), (b), (c), (f), 1203, 1204 and 1206, the Wireless Emergency Alerts, Amendments to Part 11 of the Commission's Rules Regarding the Emergency Alert System, PS Docket Nos. 15-94 and 15-91, Third Report and Order, FCC 23-88 (2023), and 47 CFR 0.5(c), 0.191, 0.201, 0.204, and 0.392 that this document is hereby adopted.

55. It is further ordered that the amendments of part 10 of the Commission's rules as set forth in Appendix A of the Report and Order are adopted. As provided in the 2023 WEA Report and Order, the adopted rule is effective 30 months from the date of publication in the Federal Register.

List of Subjects in 47 CFR Part 10

Communications equipment, Emergency preparedness, Language accessibility.

Federal Communications Commission.
Zenji Nakazawa,
Chief, Public Safety Homeland Security Bureau.

Final Rules

For the reasons discussed in the preamble, the Federal Communications Commission amends 47 CFR part 10 as follows:

PART 10—WIRELESS EMERGENCY ALERTS

1. The authority citation for part 10 continues to read as follows:

Authority: 47 U.S.C. 151, 152, 154(i), 154(n), 201, 301, 303(b), 303(e), 303(g), 303(j), 303(r), 307, 309, 316, 403, 544(g), 606, 1201, 1202, 1203, 1204, and 1206.

2. Delayed indefinitely, amend § 10.480 by adding paragraphs (c) through (f) to read as follows:

§ 10.480 Language support.

* * * * *

(c) Participating CMS Providers shall support pre-scripted alert templates for the following events: tornado emergency, tornado warning, flash flood emergency, flash flood warning, severe thunderstorm, snow squall, dust storm, hurricane, storm surge, extreme wind, test alert, fire, tsunami, earthquake, boil water, avalanche, hazardous materials, and 911 outage.

(d) Participating CMS Providers shall support the pre-scripted alert templates listed in paragraph (c) of this section for English, Arabic, Chinese (simplified and traditional), French, German, Haitian Creole, Hindi, Italian, Korean, Portuguese, Russian, Spanish, Tagalog, and Vietnamese. The language of the templates that Participating CMS Providers must support is provided at: https://www.fcc.gov/sites/default/files/FillableAlertTemplates-WEA-MultilingualOrder.pdf.

(e) Participating CMS Providers shall support the inclusion of four fillable elements that customize the pre-scripted alert templates for the languages listed in paragraph (d) of this section. Alert Messages that use the pre-scripted alert templates shall display, as specified by the originator:

(1) In the [SENDING AGENCY] field, the name of the agency originating the alert;

(2) In the [LOCATION] field, the name of the geographic area pertaining to the alert message;

(3) In the [TIME] field, the time when the emergency conditions described in the alert are expected to end;

(4) In the [URL] field, a Uniform Resource Locator (URL), if included by the alert originator.

(f) Participating CMS Providers shall support static, pre-scripted alert templates for American Sign Language (ASL) for each of the events listed in paragraph (c) of this section. The pre-scripted video templates that Participating CMS Providers must support are provided at: https://www.fcc.gov/WirelessEmergencyAlert-Templates-ASL.

3. Delayed indefinitely, amend § 10.500 by adding paragraph (e)(3) as follows:

§ 10.500 General requirements.

* * * * *

(e) * * *

(3) Displaying the corresponding pre-scripted Alert Messages in English following the display of each Alert Message that uses a pre-scripted alert template in a non-English language.

* * * * *

[FR Doc. 2025-22434 Filed 12-9-25; 8:45 am]

BILLING CODE 6712-01-P